ENVIRONMENTAL PROTECTION AGENCY

40 CFR Parts 260, 261, 262, 264, 265, 266, 267, 268, 270, 271, 273 and 279

[FRL-8188-2]

Hazardous Waste and Used Oil; Corrections to Errors in the Code of Federal Regulations

AGENCY: Environmental Protection Agency.

ACTION: Final rule.

SUMMARY: The Environmental Protection Agency (EPA) is correcting errors in the hazardous waste and used oil regulations, as a result of printing omissions, typographical errors, misspellings, citations to paragraphs and other references that have been deleted or moved to new locations without correcting the citations, and similar mistakes appearing in numerous final rules published in the Federal Register. This final rule does not create new regulatory requirements.

DATES: Effective Date: This final rule is effective on July 14, 2006.

FOR FURTHER INFORMATION CONTACT: Kathleen Rafferty, USEPA Headquarters, Ariel Rios Building, 1200 Pennsylvania Avenue, NW., Mailcode 5303P, Washington, DC 20460; phone number: (703) 308-0589; e-mail: rafferty.kathy@epa.gov.

SUPPLEMENTARY INFORMATION:

I. Does This Rule Create New Federal Requirements?

This rule does not create new regulatory requirements; rather, the rule corrects typographical errors, misspellings, punctuation mistakes, missing words, nomenclature errors, incorrect citations, and similar technical mistakes made in numerous final rules published in the Federal Register, and corrects printing omissions and other printing errors in the Federal Register and Code of Federal Regulations, in order to improve the clarity of the regulations. The application, implementation, and enforcement of the regulations addressed in this rule are not changed in any way.

II. Why Is This Correction Issued as a Final Rule?

Section 553 of the Administrative Procedures Act (APA), 5 U.S.C. 553(b), requires agencies to provide prior notice and opportunity for public comment before issuing a final rule. However, an agency may issue a rule without providing notice and an opportunity for public comment if it finds that notice and public comment procedures are impracticable, unnecessary, or contrary to the public interest (see 5 U.S.C. 553(b)(3)(B)). EPA has determined that there is good cause for making this action final without prior proposal and opportunity for public comment because these corrections to the Code of Federal Regulations do not change the regulatory requirements for the hazardous waste management program, and therefore comment is unnecessary. This action corrects typographical and printing errors, incorrect citations resulting primarily from a failure to identify and make conforming changes to internal references when obsolete requirements are removed and subsequent paragraphs are redesignated, and similar mistakes. For these reasons, EPA believes that there is good cause under 5 U.S.C. 553(b)(3) for issuing these corrections as a final rule, and that it is in the public interest to make the corrections to the CFR immediately effective, without going through notice and comment procedures.

III. What Does This Rule Do and Why Are the Corrections Necessary?

This rule corrects approximately 500 errors in the 40 CFR hazardous waste and used oil regulations. As discussed in Section I. above, these errors resulted from such mistakes as typographical and printing errors, and incorrect citations often resulting from EPA's failure to make conforming changes to internal references when, for example, removing obsolete requirements and making associated redesignations of paragraphs; this action also replaces references to DOT regulations that have been superceded (and are thus no longer in the CFR) with the verbatim language of the superceded DOT regulations without changing the implementation and enforcement of the regulations in any way. EPA believes that the errors cause confusion and that the corrections will facilitate understanding of the hazardous waste and used oil regulations.

In developing this rule, EPA accumulated a lengthy list of suggested “technical” corrections, including a number from EPA regions and the States who implement these regulations. Today's action represents approximately 85 percent of the suggested technical corrections received. EPA will continue to examine the remaining 15 percent for a subsequent technical corrections rule.

The 40 CFR sections where corrections are being made are listed below, organized by part. For a number of these, where the correction is not so obvious (e.g., is not a simple misspelling), a description of the change and an explanation are provided. As can be seen by these descriptions, none of the corrections in today's notice changes the original substance or meaning of these sections.

A. Corrections to 40 CFR Part 260 (Hazardous Waste Management System: General)

1. EPA is amending the following sections in 40 CFR part 260 in order to correct typographical errors and incorrect citations: Section 260.10 definitions of “Designated facility,” “Incompatible waste,” “Personnel or facility personnel,” “Universal waste,” and “Used oil;” and §§ 260.22, 260.40, and 260.41.

2. 40 CFR 260.40 and 260.41: EPA is making a conforming change to § 260.40(a) and to the introductory language in § 260.41 by revising the reference “§ 261.6(a)(2)(iv)” to read “§ 261.6(a)(2)(iii).” When §§ 260.40 and 260.41 were first added (50 FR 662 and 663, January 4, 1985), § 260.6 was revised (50 FR 665, January 4, 1985) such that paragraph (a)(2)(iii) was reserved for used oil, paragraph (a)(2)(iv) referred to precious metals, and paragraph (a)(2)(v) referred to spent lead-acid batteries. Subsequently, in the used oil regulations (57 FR 41612, September 10, 1992), § 261.6(a)(2) paragraph (iii) was deleted, and paragraphs (iv) and (v) were redesignated as paragraphs (iii) and (iv), but the conforming changes were not made to §§ 260.40 and 260.41, by redesignating § 261.6(a)(2)(iv) to § 261.6(a)(2)(iii), to keep the reference to precious metals. Today's rule makes this conforming correction. EPA also notes that the reference in § 260.41 to subpart F of part 266 correctly addresses precious metals recovery (it is subpart G of part 266 that addresses spent lead-acid batteries reclamation).

B. Corrections to Part 261 (Identification and Listing of Hazardous Waste)

1. EPA is amending the following sections of 40 CFR part 261 in order to correct typographical and spelling errors, incorrect citations, and printing errors: Sections 261.2, 261.3, 261.4, 261.6, 261.21, 261.24, 261.31, 261.32, 261.33, 261.38, Appendix VII (F002, F038, F039, K001, and K073 entries), and Appendix VIII.

2. 40 CFR 261.21(a)(3) and 261.21(a)(4): When EPA first promulgated the ignitability characteristic for hazardous waste identification, the Agency incorporated, by reference, U.S. Department of Transportation (DOT) regulations (contained in Title 49 of the CFR) that defined an ignitable compressed gas and an oxidizer. In 1990, DOT revised and recodified its regulations governing transportation of hazardous materials, including the sections of 49 CFR referenced by 40 CFR 261.21.¹ The referenced DOT regulations were both revised and moved within 49 CFR; as a result, the hazardous characteristic definitions at 40 CFR 261.21(a)(3) and 261.21(a)(4) now refer to nonexistent or irrelevant sections of the DOT regulations.

¹

55 FR 52402.

Since these original DOT regulations are still required under RCRA, EPA is replacing the obsolete references to the DOT regulations contained in the definitions for an ignitable compressed gas and an oxidizer, 40 CFR 261.21(a)(3) and 261.21(a)(4), respectively, with the actual language from the referenced sections of the DOT regulations that was published in Title 49 of the CFR at the time of the finalization of the RCRA regulations (1980). Because it can be difficult to obtain copies of the CFR from 1980, this revision will make it easier for the regulated community to find and apply the definitions of ignitable compressed gas and oxidizer for the purposes of 261.21. The implementation and enforcement of the ignitability characteristic will not change in any way. The Agency is simply publishing the original definitions to ease the burden on the regulated community.

3. 40 CFR 261.31(a): This section was amended June 29, 1995 (60 CFR 33913), by removing footnote 1 from the table (referring to a temporary stay of the effective date of regulations listing certain wood preserving wastes as hazardous wastes). The Office of Federal Register, by mistake, also removed the footnote designated by an asterisk (*) which said “*(I,T) should be used to specify mixtures containing ignitable and toxic constituents.” Today's notice restores and clarifies the footnote to read “*(I,T) should be used to specify mixtures that are ignitable and contain toxic constituents.”

4. 40 CFR 261.33(e) and 261.33(f): The Tables in §§ 261.33(e) and 261.33(f) describe P-listed waste and U-listed waste, respectively. The wastes listed in these Tables are currently organized alphabetically, by substance. In order to simplify the use of the Tables in §§ 231.33(e) and 261.33(f), this rule adds a list of the same wastes organized numerically, by Hazardous Waste Number, to the end of each Table. The Table in § 261.33(e) will now have an alphabetical list of P-listed wastes followed by a numerical list of P-listed wastes, and the Table in § 261.33(f) will now have an alphabetical list of U-listed wastes followed by a numerical list of U-listed wastes. The wastes listed in these Tables are not being changed, except to correct typographical errors. This revision is included to make the Tables in §§ 261.33(e) and 261.33 (f) easier to use and does not substantively change the regulations governing P-listed or U-listed wastes.

C. Corrections to Part 262 (Standards Applicable to Generators of Hazardous Waste)

1. EPA is amending the following sections in 40 CFR part 262 in order to correct typographical errors and incorrect citations, and to update EPA addresses and the list of OECD countries: Sections 262.34, 262.53, 262.56, 262.58, 262.70, 262.81, 262.82, 262.83, 262.84, 262.87, 262.90, and the introductory paragraph to the part 262 Appendix.

2. 40 CFR 262.53(b), 262.56(b), 262.83(b)(1)(i), 262.83(b)(2)(i), 262.84(e), and 262.87(a): These sections are all being amended by updating the mailing and hand delivery addresses for delivery of the various export notifications, reports and tracking documents to EPA.

3. 40 CFR 262.58(a)(1): This section is being amended to update the list of designated OECD Member countries by adding the Czech Republic, Hungary, Poland, the Slovak Republic, and South Korea to accurately reflect the current membership.

4. 40 CFR 262.81(k): This section is being amended by updating the address for the EPA RCRA Docket.

D. Corrections to Part 264 (Standards for Owners and Operators of Hazardous Waste Treatment, Storage, and Disposal Facilities

1. EPA is amending the following sections of 40 CFR part 264 in order to correct typographical and spelling errors, incorrect citations, and printing errors: Sections 264.1, 264.4, 264.13, 264.17, 264.18, 264.97, 264.98, 264.99, 264.101, 264.111, 264.112, 264.115, 264.116, 264.118, 264.119, 264.140, 264.142, 264.143, 264.145, 264.147, 264.151, 264.175, 264.193, 264.221, 264.223, 264.226, 264.251, 264.252, 264.259, 264.280, 264.283, 264.301, 264.302, 264.304, 264.314, 264.317, 264.344, 264.552, 264.553, 264.554, 264.555, 264.573, 264.600, 264.601, 264.1030, 264.1033, 264.1034, 264.1035, 264.1050, 264.1058, 264.1064, 264.1080, 264.1090, 264.1101, 264.1102, and Tables 1 and 2 of Appendix I.

2. 40 CFR 264.112(b)(8) and 264.140(d)(1): On October 22, 1998 (63 FR 56710), EPA issued a final rule establishing new requirements related to closure and post-closure care at land disposal facilities. Today's rule corrects two typographical errors that appeared in the October 22, 1998 final rule. Sections 264.112(b)(8) and 264.140(d)(1)of that rule referred to § 264.110(d), when they should have referred to § 264.110(c). This error is evidenced by the fact that § 264.110(d) does not exist. In addition, the preamble of the final rule correctly refers to § 264.110(c) in the text under Table 1 (63 FR 56714). Finally, the corresponding provision in §§ 265.112(b)(8) and 265.140(d)(1) correctly refers to § 265.110(d), which is analogous to § 264.110(c). Thus, this final rule corrects the typographical errors in §§ 264.112(b)(8) and 264.140(d)(1) by changing the incorrect reference “§ 264.110(d)” to read “§ 264.110(c).”

3. 40 CFR 264.221(e)(2)(i)(B), 264.301(e)(2)(i)(B), 264.314(f)(2), 265.221(d)(2)(i)(B), 265.301(d)(2)(i)(B), and 265.314(g)(2): These sections in 40 CFR parts 264 and 265 all refer to “underground source of drinking water (as that term is defined in § 144.3 of this chapter).” Today's correction replaces the citation “§ 144.3 of this chapter” in each of these sections with “40 CFR 270.2” since both citations contain identical definitions for “underground source of drinking water,” but the former is in the Underground Injection Control Program rules and the latter is in the Hazardous Waste Permit Program rules which the user is more likely to have readily available since parts 264 and 265 are the associated Hazardous Waste Facility rules. Today's correction also adds quotes around “underground source of drinking water” to make it clear that this is the term that is defined.

4. 40 CFR 264.573 and 265.443: Sections 264.572 and 265.442 each provide two options for drip pads: Synthetic liners, in paragraph (a) of both sections; and other low permeability material, in paragraph (b) of both sections. But the design and operating requirements for synthetic liners in paragraphs 264.573(b) and 265.443(b), incorrectly refer to paragraphs 264.572(b) and 265.442(b), respectively; and the design and operating requirements for other low permeability material in paragraphs 264.573(a)(4)(i) and 265.443(a)(4)(i) incorrectly refer to §§ 264.572(a) and 265.442(a), respectively. This mistake was in the original Federal Register notice (57 FR 61503, December 24, 1992). Today's action corrects these four references by changing (a) to (b) and (b) to (a) as indicated.

5. 40 CFR 264.1090(c): EPA is amending this paragraph to correct a typographical error and to remove a duplicate sentence; no other changes are being made.

6. 40 CFR 264.1101(b)(3)(iii) and 265.1101(b)(3)(iii): These paragraphs refer to §§ 264.193(d)(1) and 265.193(d)(1), respectively, for the requirements for external liner systems for tanks, but these referenced paragraphs merely provide that a liner external to a tank is an option for meeting secondary containment. The actual requirements for external liner systems for tanks are found in §§ 264.193(e)(1) and 265.193(e)(1), respectively. This mistake was in the original Federal Register notice (57 FR 37266, August 18, 1992). Today's action provides the correct paragraphs for the requirements.

7. Table 1 of Appendix I to 40 CFR Part 264: EPA is amending Table 1 in order to add the unit of measure codes for “Pounds,” “Short tons,” “Kilograms,” and “Tons.”

E. Corrections to Part 265 (Interim Status Standards for Owners and Operators of Hazardous Waste Treatment, Storage, and Disposal Facilities

1. EPA is amending the following sections of 40 CFR part 265 in order to correct typographical and spelling errors, incorrect citations, and printing errors: Sections 265.1, 265.12, 265.14, 265.16, 265.19, 265.56, 265.90, 265.110, 265.111, 265.112, 265.113, 265.117, 265.119, 265.140, 265.142, 265.145, 265.147, 265.174, 265.193, 265.194, 265.197, 265.201, 265.221, 265.223, 265.224, 265.228, 265.229, 265.255, 265.259, 265.280, 265.281, 265.301, 265.302, 265.303, 265.312, 265.314, 265.316, 265.405, 265.441, 265.443, 265.445, 265.1033, 265.1035, 265.1063, 265.1080, 265.1085, 265.1087, 265.1090, 265.1100, 265.1101, Tables 1 and 2 of Appendix I, Appendix V, and Appendix VI.

2. 40 CFR 265.147(b)(1)(i) and (ii): Because of a printing error, 40 CFR 265.147(a)(1)(i) and (ii), and 265.147(b)(1)(i) and (ii) were omitted from the July 1, 1989, 1990 and 1991 CFRs, although they were included in earlier editions of the Federal Register and CFRs. A September 23, 1991 (56 FR 47912) correction to the CFR published in the Federal Register corrected the omission of § 265.147(a)(1)(i) and (ii) from those CFRs, but did not mention the omission of § 265.147(b)(1)(i) and (ii) from the CFR. This correction is being made to be sure the subparagraphs in 265.147(b)(1) are in the next edition of the CFR.

3. 40 CFR 265.174: The Burden Reduction Rule (71 FR 16910, April 4, 2006) inadvertently lifted the phrase “and the containment system” from § 264.174 and inserted it into § 265.174. The intent of the Burden Reduction Rule in revising §§ 264.174 and 265.174 was to provide a procedure for Performance Track member facilities to revise their required inspection frequency for container/container areas. At the same time, the Burden Reduction Rule sought to make conforming changes to these sections. Before the Burden Reduction Rule, these two sections, except for the phrase “and the containment system,” were identical in meaning (although they used different language).

Section 264.175 contains requirements and specifications for a containment system for the Part 264 container storage areas. There are no requirements for a containment system for Part 265 container storage areas (§ 265.175 does not exist; it is reserved). To simplify, clarify, and avoid confusion, the Burden Reduction Rule attempted to conform these two sections by using the same language in new § 265.174 as in new § 264.174 for the comparable parts; but in the process, the erroneous reference “and the containment system” was retained. Today's notice corrects this error.

4. 40 CFR 265.221: The April 4, 2006 final rule (71 FR 16911) amended 40 CFR 265.221 (a). In the process, the words “above and” were inadvertently added, such that the paragraph was amended to read, “The owner or operator of each new surface impoundment unit* * * *must install two or more liners, and a leachate collection and removal system above and between the liners* * * *.” Table 8 in the preamble (71 FR 16876, April 4, 2006) incorrectly indicated that the existing language in § 265.22 (a) included the words “above and,” and the Table indicated that no change was being made here. In actuality, the words “above and” were not in the existing language and EPA indeed had no intent to change this part of the paragraph. As a practical matter, it is impossible to have a “leachate” collection and removal system above a liner in a surface impoundment since the liquid waste itself is there, not leachate.

5. 40 CFR 265.229: The January 29, 1992 final rule (57 FR 3462) amended 40 CFR 265.228 by redesignating paragraphs (b)(2) and (b)(3) as paragraphs (b)(3) and (b)(4) respectively, and by adding a new paragraph (b)(2). However, instructions for amending § 265.228 were erroneously also applied to § 265.229 (which was not amended by the January 29, 1992 rule), thus resulting in the redesignation of § 265.229(b)(2) and (b)(3) as § 265.229(b)(3) and (b)(4) and the addition of a new § 265.229(b)(2), repeating the paragraph added at § 265.228(b)(2). This error is being corrected by removing 40 CFR 265.229(b)(2), redesignating 40 CFR 265.229(b)(3) and (b)(4) as 40 CFR 265.229(b)(2) and (b)(3), and removing the reference to “57 FR 3493, Jan. 29, 1992” from the Federal Register listing at the end of 40 CFR 265.229.

6. 40 CFR 265.1100(d): Section 265.1100 lists a number of criteria that enable a containment building to not be classified as land disposal under RCRA 3004(k), i.e., that prevent or control releases to the environment. The operable verbs used in this list are: “to prevent” (paragraph (a)), “to withstand” (paragraph (b)), “to prevent” (paragraph (c)(1)), “to minimize” (paragraph (c)(2)), “to prevent” (paragraph (c)(3)), and “to ensure containment and prevent” (paragraph (e)). Yet in paragraph (d), EPA, by mistake, used the word “permit” instead of “prevent,” in saying: “Has controls as needed to permit fugitive dust emissions.” As further evidence EPA meant “prevent,” the comparable paragraph in § 264.1100(d) says: “Has controls sufficient to prevent fugitive dust emissions* * * *.” Further, the accompanying design and operating standards in § 265.1101(a)(2)(i) and (c)(1)(iv) require that all containment buildings “provide an effective barrier against fugitive dust emissions,” and “control fugitive dust emissions” with “no visible emissions.” This mistake was in the original Federal Register notice (57 FR 37268, August 18, 1992). Today's action corrects this mistake by changing “permit” to “prevent” in § 265.1100, paragraph (d).

7. Table 1 of Appendix I to 40 CFR Part 265: EPA is amending Table 1 in order to add the unit of measure codes for “Pounds,” “Short tons,” “Kilograms,” and “Tons.”

F. Corrections to Part 266 (Standards for the Management of Specific Hazardous Wastes and Specific Types of Hazardous Waste Management Facilities)

1. EPA is amending the following sections of 40 CFR part 266 in order to correct typographical and spelling errors, incorrect citations, and printing errors: Sections 266.70, 266.80, 266.100, 266.102, 266.103, 266.106, 266.109, Title of Subpart N, and Appendices III, IV, V, VI, VIII, IX and XIII.

2. 40 CFR 266.103(c)(1)(i) and (ix): These provisions were initially introduced into the Code of Federal Regulations by a final rule published on February 21, 1991 (56 FR 7134), with an amendment to § 266.103(c)(1)(ix) published on July 17, 1991 (56 FR 32688). An August 27, 1991 final rule (56 FR 42504) amended paragraphs (c)(1) and (c)(3)(i), but a printing error by the Office of the Federal Register resulted in the removal of 40 CFR 266.103(c)(1)(i) through (xiii) and 40 CFR 266.103(c)(3)(ii) and (iii) from the 1992 edition of 40 CFR. A September 30, 1992 final rule (57 FR 44999) reinstated these paragraphs and clarified that they were regarded by EPA to have been in effect continuously in the form published in the 1991 CFR and as subsequently amended by an August 25, 1992 final rule (57 FR 38558). However, in reinstating these paragraphs, errors were introduced in the text at § 266.103(c)(1)(i) and (ix). Today's notice is correcting the errors by reinstating the language at § 266.103(c)(1)(i), as introduced by the February 21, 1991 (56 FR 7134) final rule, and the language at § 266.103(c)(1)(ix), as introduced by the February 21, 1991 final rule (56 FR 7134) and amended by the July 17, 1991 final rule (56 FR 32688).

3. 40 CFR 266.106(d)(1): The August 25, 1992 final rule (57 FR 38558), which amended 40 CFR 266.106(d)(1), introduced an error into the Federal code by including the duplicate phrase “dispersion modeling to predict the maximum annual average off-site ground level concentration for each.” Today's action corrects the error by removing the duplicate phrase.

G. Corrections to Part 267 (Standards for Owners and Operators of Hazardous Waste Facilities Operating Under a Standardized Permit)

1. EPA is amending 40 CFR part 267 in order to correct the nomenclature in § 267.147.

H. Corrections to Part 268 (Land Disposal Restrictions)

1. EPA is amending the following sections of 40 CFR part 268 in order to correct typographical and spelling errors, incorrect citations, and printing errors: Sections 268.2, 268.4, 268.6, 268.7, 268.14, 268.40, 268.42, 268.44, 268.45, 268.48 Table, 268.49, 268.50, and Appendix VIII.

2. 40 CFR 268.7(b)(4)(ii), (d), (d)(2), and (d)(3): All these paragraphs incorrectly cite § 261.3(e), which is now “reserved,” for debris excluded from the definition of hazardous waste. The exclusion for debris is located in § 261.3(f). This error can be traced to a January 9, 1992 Federal Register (57 FR 1013) where it was proposed to place this requirement in § 261.3(e), but in the August 18, 1992 Federal Register (57 FR 37264) it was placed in § 261.3(f). It was also the August 18, 1992 final rule that erroneously added six references to § 261.3(e) instead of § 261.3(f). Today's action corrects these citations.

3. 40 CFR 268.7(d)(1) and (d)(1)(i) through (iii): The August 18, 1992 final rule (57 FR 37194) added 40 CFR 268.7(d)(1) and (d)(1)(i) through (iii) to the Federal code. On January 3, 1995 (60 FR 244-245), EPA amended § 268.7(d), introductory text, and (d)(1), but in doing so, erroneously added the duplicate phrase “or State authorized to implement part 268 requirements” in paragraph (d)(1). In addition, the Office of the Federal Register, by mistake, removed paragraphs (d)(1)(i) through (iii). This notice corrects these errors by removing the duplicate phrase at 40 CFR 268.7(d)(1) and reinstating paragraphs (d)(1)(i) through (iii) of 40 CFR 268.7.

I. Corrections to Part 270 (EPA Administered Permit Programs: The Hazardous Waste Permit Program)

EPA is amending the following sections of 40 CFR part 270 in order to correct typographical and spelling errors, and incorrect citations: Sections 270.1, 270.2, 270.10, 270.11, 270.13, 270.14, 270.17, 270.18, 270.20, 270.25, 270.26, 270.33, 270.41, 270.42, 270.42 Appendix I, 270.51, 270.70 and 270.72.

J. Corrections to Part 271 (Requirements for Authorization of State Hazardous Waste Program)

1. EPA is correcting typographical and spelling errors in the following sections of 40 CFR part 271: Sections 271.1, 271.21, and 271.23.

2. 40 CFR 271.21(g)(1)(i): Today's action restores language that the CFR mistakenly changed between the 1996 and 1997 CFRs, by revising “The State has received an extension of the program modification deadline * * * and has made dils to revise its program * * *” to read “The State has received an extension of the program modification deadline * * * and has made diligent efforts to revise its program * * *.”

K. Corrections to Part 273 (Standards for Universal Waste Management)

EPA is amending the following sections of 40 CFR part 273 in order to correct typographical and spelling errors: Sections 273.9, 273.13, 273.14, 273.34 and 273.61.

L. Corrections to Part 279 (Standards for the Management of Used Oil)

EPA is amending the following sections of 40 CFR part 279 in order to correct typographical and spelling errors, and incorrect citations: §§ 279.1, 279.10, 279.11, 279.43, 279.44, 279.45, 279.52, 279.55, 279.56, 279.57, 279.59, 279.63, 279.64, and 279.70.

IV. Statutory and Executive Order Reviews

This final rule corrects errors introduced into the CFR by numerous previous rules and does not create any new regulatory requirements. Therefore, this rule complies with applicable executive orders and statutory provisions as follows.

1. Executive Order 12866: Regulatory Planning Review—Because this rule corrects errors in the CFR and does not create any new regulatory requirements, EPA has determined that this rule is not a “significant regulatory action” under the terms of Executive Order 12866 (58 FR 51735, October 4, 1993) and is therefore not subject to review by the Office of Management and Budget (OMB).

2. Paperwork Reduction Act—This rule does not impose an information collection burden under the provisions of the Paperwork Reduction Act of 1995 (44 U.S.C. 3501 et seq.).

3. Regulatory Flexibility Act—This rule corrects errors in the CFR and does not impose new burdens on small entities. Accordingly, I certify that this action will not have a significant economic impact on a substantial number of small entities under the Regulatory Flexibility Act (5 U.S.C. 601 et seq.).

4. Unfunded Mandates Reform Act—Because this rule only corrects errors in the CFR, it does not contain any unfunded mandate or significantly or uniquely affect small governments, as described in the Unfunded Mandates Reform Act of 1995 (Pub. L. 104-4).

5. Executive Order 13132: Federalism—Executive Order 13132 (64 FR 43255, August 10, 1999) does not apply to this rule because it will not have federalism implications (i.e., substantial direct effects on the States, on the relationship between the Federal government and the States, or on the distribution of power and responsibilities among the various levels of government).

6. Executive Order 13175: Consultation and Coordination with Indian Tribal Governments—Executive Order 13175 (65 FR 67249, November 6, 2000) does not apply to this rule because it will not have tribal implications (i.e., substantial direct effects on one or more Indian tribes, or on the relationship between the Federal government and Indian tribes, or on the distribution of power and responsibilities between the Federal government and Indian tribes).

7. Executive Order 13045: Protection of Children from Environmental Health and Safety Risks—This rule is not subject to Executive Order 13045 (62 FR 19885, April 23, 1997), because it is not economically significant and it is not based on environmental health or safety risks.

8. Executive Order 13211: Actions that Significantly Affect Energy Supply, Distribution, or Use—This rule is not subject to Executive Order 13211 (66 FR 28355, May 22, 2001) because it is not a significant regulatory action under Executive Order 12866.

9. National Technology Transfer Advancement Act—The requirements of section 12(d) of the National Technology Transfer and Advancement Act of 1995 (15 U.S.C. 272 note) do not apply because this rule only corrects errors in the CFR and does not involve technical standards.

10. Executive Order 12988—As required by section 3 of Executive Order 12988 (61 FR 4729, February 7, 1996), EPA has taken the necessary steps in this action to eliminate drafting errors and ambiguity, minimize potential litigation, and provide a clear legal standard for affected conduct.

11. Congressional Review Act—EPA will submit a report containing this rule and other information required by the Congressional Review Act (5 U.S.C. 801 et seq., as amended) to the U.S. Senate, the U.S. House of Representatives, and the Comptroller General of the United States prior to publication in the Federal Register. A major rule cannot take effect until 60 days after it is published in the Federal Register. This action is not a “major rule” as defined by 5 U.S.C. 804(2). This action is effective July 14, 2006.

List of Subjects

40 CFR Part 260

Environmental protection, Administrative practice and procedure, Confidential business information, Hazardous waste, Reporting and recordkeeping requirements.

40 CFR Part 261

Environmental protection, Hazardous waste, Recycling, Reporting and recordkeeping requirements.

40 CFR Part 262

Environmental protection, Exports, Hazardous materials transportation, Hazardous waste, Imports, Labeling, Packaging and containers, Reporting and recordkeeping requirements.

40 CFR Parts 264 and 265

Environmental protection, Air pollution control, Hazardous waste, Insurance, Packaging and containers, Reporting and recordkeeping requirements, Security measures, Surety bonds.

40 CFR Part 266

Hazardous waste, Recyclable materials, Boilers and industrial furnaces, Low-level mixed waste.

40 CFR Part 267

Standardized permits, Financial test.

40 CFR Part 268

Environmental protection, Hazardous materials, Reporting and recordkeeping requirements.

40 CFR Part 270

Environmental protection, Administrative practice and procedure, Confidential business information, Hazardous materials transportation, Hazardous waste, Reporting and recordkeeping requirements, Water pollution control, Water supply.

40 CFR Part 271

Environmental protection, Administrative practice and procedure, Confidential business information, Hazardous materials transportation, Hazardous waste, Indian lands, Intergovernmental relations, Penalties, Reporting and recordkeeping requirements, Water pollution control, Water supply.

40 CFR Part 273

Environmental protection, Hazardous materials transportation, Hazardous waste.

40 CFR Part 279

Environmental protection, Petroleum, Recycling, Reporting and recordkeeping requirements.

Dated: June 16, 2006.
Susan Parker Bodine,
Assistant Administrator for Office of Solid Waste and Emergency Response.

For the reasons set out in the preamble, 40 CFR Parts 260, 261, 262, 264, 265, 266, 267 268, 270, 271, 273, and 279 are amended as follows:

PART 260—HAZARDOUS WASTE MANAGEMENT SYSTEM: GENERAL

1. The authority citation for part 260 continues to read as follows:

Authority: 42 U.S.C. 6905, 6912(a), 6921-6927, 6930, 6934, 6935, 6937, 6938, 6939, and 6974.

§ 260.10 [Amended]

2. Amend § 260.10 as follows:

a. In the definition of “Incompatible waste,” revise the parenthetical phrase “(See part 265, appendix V, of this chapter for examples.)” to read “(See appendix V of parts 264 and 265 of this chapter for examples.)”;

b. In the definition of “Personnel or facility personnel,” remove the comma after the word “work”;

c. In the definition of “Universal waste,” remove the section symbol “§ ” in front of “273”;

d. In the definition of “Used oil,” revise “in contaminated” to read “is contaminated”.

§ 260.22 [Amended]

3. Amend § 260.22 as follows:

a. In paragraph (a)(1), revise “actutely” to read “acutely”;

b. In paragraph (d)(1)(ii), revise “hazrdous” to read “hazardous”.

§ 260.40 [Amended]

4. In § 260.40, amend paragraph (a) by revising the citation “§ 261.6(a)(2)(iv)” to read “§ 261.6(a)(2)(iii)”.

§ 260.41 [Amended]

5. Amend the § 260.41 introductory text by revising the citation “§ 261.6(a)(2)(iv)” to read “§ 261.6(a)(2)(iii)”.

PART 261—IDENTIFICATION AND LISTING OF HAZARDOUS WASTE

6. The authority citation for Part 261 continues to read as follows:

Authority: 42 U.S.C. 6905, 6912(a), 6921, 6922, 6924(y), and 6938.

§ 261.2 [Amended]

7. Amend § 261.2 (c)(1)(i) by revising the reference to “Table I” to read “Table 1”(i.e., revise the letter “I” to be the number “1”).

§ 261.3 [Amended]

8. Amend § 261.3(a)(2)(i) by revising the reference to “table I” to read “Table 1” (i.e., revise the letter “I” to be the number “1”).

§ 261.4 [Amended]

9. Amend § 261.4 as follows: a. In paragraph (a)(20)(v), revise “inparagraph” by inserting a space to read “in paragraph”;

b. In paragraph (b)(6)(i)(B), revise “exlcusively” to read “exclusively”;

c. In paragraph (b)(6)(ii) introductory text, revise “Specific waste” to read “Specific wastes”;

d. In paragraph (b)(6)(ii)(D), revise “crome” to read “chrome”;

e. In paragraph (b)(6)(ii)(F), revise “sludes” to read “sludges”, and revise the word “chrometan” to read “chrome tan”;

f. In paragraph (b)(9), revise “and wood product” to read “and wood products”;

g. In paragraph (e)(2)(vi), revise the citation “(e)(v)(C)” to read “(e)(2)(v)(C)”;

h. In paragraph (e)(3)(i) first sentence, revise “treatabilty” to read “treatability”.

§ 261.6 [Amended]

10. Amend § 261.6 as follows:

a. In paragraph (a)(2)(i), remove the parenthetical phrase “(subpart C)” and add “(40 CFR part 266, subpart C)” in its place;

b. In paragraph (a)(2)(ii), remove the parenthetical phrase “(subpart H)” and add “(40 CFR part 266, subpart H)” in its place;

c. In paragraph (a)(2)(iii), remove the parenthetical phrase “(subpart F)” and add “(40 CFR part 266, subpart F)” in its place;

d. In paragraph (a)(2)(iv), remove the parenthetical phrase “(subpart G)” and add “(40 CFR part 266, subpart G)” in its palce;

e. In paragraph (a)(2)(v), remove the parenthetical phrase “(subpart O)” and add “(40 CFR part 266, subpart O)” in its place;

f. In paragraph (c)(2), revise the word “rcycled” to read “recycled”.

§ 261.21 [Amended]

11. In § 261.21, revise paragraphs (a)(3) and (a)(4) and add notes 1 through 4 to the end of the section to read as follows:

§ 261.21 Characteristic of ignitability.

(a) * * *

(3) It is an ignitable compressed gas.

(i) The term “compressed gas” shall designate any material or mixture having in the container an absolute pressure exceeding 40 p.s.i. at 70 °F or, regardless of the pressure at 70 °F, having an absolute pressure exceeding 104 p.s.i. at 130 °F; or any liquid flammable material having a vapor pressure exceeding 40 p.s.i. absolute at 100 °F as determined by ASTM Test D-323.

(ii) A compressed gas shall be characterized as ignitable if any one of the following occurs:

(A) Either a mixture of 13 percent or less (by volume) with air forms a flammable mixture or the flammable range with air is wider than 12 percent regardless of the lower limit. These limits shall be determined at atmospheric temperature and pressure. The method of sampling and test procedure shall be acceptable to the Bureau of Explosives and approved by the director, Pipeline and Hazardous Materials Technology, U.S. Department of Transportation (see Note 2).

(B) Using the Bureau of Explosives' Flame Projection Apparatus (see Note 1), the flame projects more than 18 inches beyond the ignition source with valve opened fully, or, the flame flashes back and burns at the valve with any degree of valve opening.

(C) Using the Bureau of Explosives' Open Drum Apparatus (see Note 1), there is any significant propagation of flame away from the ignition source.

(D) Using the Bureau of Explosives' Closed Drum Apparatus (see Note 1), there is any explosion of the vapor-air mixture in the drum.

(4) It is an oxidizer. An oxidizer for the purpose of this subchapter is a substance such as a chlorate, permanganate, inorganic peroxide, or a nitrate, that yields oxygen readily to stimulate the combustion of organic matter (see Note 4).

(i) An organic compound containing the bivalent -O-O- structure and which may be considered a derivative of hydrogen peroxide where one or more of the hydrogen atoms have been replaced by organic radicals must be classed as an organic peroxide unless:

(A) The material meets the definition of a Class A explosive or a Class B explosive, as defined in § 261.23(a)(8), in which case it must be classed as an explosive,

(B) The material is forbidden to be offered for transportation according to 49 CFR 172.101 and 49 CFR 173.21,

(C) It is determined that the predominant hazard of the material containing an organic peroxide is other than that of an organic peroxide, or

(D) According to data on file with the Pipeline and Hazardous Materials Safety Administration in the U.S. Department of Transportation (see Note 3), it has been determined that the material does not present a hazard in transportation.

* * * * *

Note 1: A description of the Bureau of Explosives' Flame Projection Apparatus, Open Drum Apparatus, Closed Drum Apparatus, and method of tests may be procured from the Bureau of Explosives.

Note 2: As part of a U.S. Department of Transportation (DOT) reorganization, the Office of Hazardous Materials Technology (OHMT), which was the office listed in the 1980 publication of 49 CFR 173.300 for the purposes of approving sampling and test procedures for a flammable gas, ceased operations on February 20, 2005. OHMT programs have moved to the Pipeline and Hazardous Materials Safety Administration (PHMSA) in the DOT.

Note 3: As part of a U.S. Department of Transportation (DOT) reorganization, the Research and Special Programs Administration (RSPA), which was the office listed in the 1980 publication of 49 CFR 173.151a for the purposes of determining that a material does not present a hazard in transport, ceased operations on February 20, 2005. RSPA programs have moved to the Pipeline and Hazardous Materials Safety Administration (PHMSA) in the DOT.

Note 4: The DOT regulatory definition of an oxidizer was contained in § 173.151 of 49 CFR, and the definition of an organic peroxide was contained in paragraph 173.151a. An organic peroxide is a type of oxidizer.

§ 261.24 [Amended]

12. In § 261.24, amend paragraph (b) by revising the reference to “Table I” to read “Table 1” (i.e., replace the letter “I” with the number “1”).

§ 261.31 [Amended]

13. In § 261.31(a), amend the Table by adding a footnote at the bottom to read as follows: “*(I,T) should be used to specify mixtures that are ignitable and contain toxic constituents.”.

§ 261.32 [Amended]

14. In § 261.32, amend the Table entries for “K107” and “K069” as follows:

a. In the second column of the row beginning “K107”, amend “1,1-dimethyl-hydrazine” by deleting the hyphen to read “1,1-dimethylhydrazine”;

b. In the second column of the row beginning “K069”, add a closing parenthesis after the word “Register”.

§ 261.33 [Amended]

15. Amend § 261.33 as follows:

a. In paragraph (e), revise the phrase “are subject to be the” to read “are subject to the”;

b. In paragraph (e), amend the bracketed Comment by adding a sentence at the end, within the brackets, to read as set forth below;

c. In the Table in paragraph (e), in the third column of the row beginning “P045”, in the substance “2-Butanone, 3,3-dimethyl-l-(methylthio)-,O-[methylamino)carbonyl]oxime”, add an opening parenthesis to revise “[methylamino)” to read “[(methylamino)”;

d. In the Table in paragraph (e), in the third column of the row beginning “P194”, in the substance “Ethanimidothioc acid, 2-(dimethylamino)-N-[[(methylamino) carbonyl]oxy]-2-oxo-, methyl ester,” revise “Ethanimidothioc” to read “Ethanimidothioic”;

e. In the Table in paragraph (e), in the third column of the second row beginning “P074”, revise “Nickel cynaide” to read “Nickel cyanide”.

f. Add entries to the end of the Table in paragraph (e) to read as set forth below:

g. Amend paragraph (f) by revising “manfacturing” to read “manufacturing”.

h. In paragraph (f), amend the bracketed Comment by adding a sentence to the end, within the brackets, to read as set forth below.

i. In the table to paragraph (f), in the entry with “Paraldehyde” in the third column, revise the first column “2” to read “U182”;

j. In the table of paragrah (f), in the third column of the second row beginning “U216”, revise “Thallium chloride Tlcl” to read “thallium chloride TlCl”;

k. In the table of paragraph (f), add an entry just above the entry for “U227” (in column 1), “79-00-5” (in column 2), and “1,1,2-Trichloroethane” (in column 3) to read as set forth below.

l. Add entries to the end of the Table in paragraph (f) as follows:

§ 261.33 Discarded commercial chemical products, off-specification species, container residues, and spill residues thereof.

* * * * *

(e) * * *

[Comment: * * * Wastes are first listed in alphabetical order by substance and then listed again in numerical order by Hazardous Waste Number.]

* * * * *

Numerical List
Hazardous waste No. | Chemical abstracts No. | Substance
P001 | ¹ 81-81-2 | 2H-1-Benzopyran-2-one, 4-hydroxy-3-(3-oxo-1-phenylbutyl)-, & salts, when present at concentrations greater than 0.3%
P001 | ¹ 81-81-2 | Warfarin, & salts, when present at concentrations greater than 0.3%
P002 | 591-08-2 | Acetamide, -(aminothioxomethyl)-
P002 | 591-08-2 | 1-Acetyl-2-thiourea
P003 | 107-02-8 | Acrolein
P003 | 107-02-8 | 2-Propenal
P004 | 309-00-2 | Aldrin
P004 | 309-00-2 | 1,4,5,8-Dimethanonaphthalene, 1,2,3,4,10,10-hexa-chloro-1,4,4a,5,8,8a,-hexahydro-, (1alpha,4alpha,4abeta,5alpha,8alpha,8abeta)-
P005 | 107-18-6 | Allyl alcohol
P005 | 107-18-6 | 2-Propen-1-ol
P006 | 20859-73-8 | Aluminum phosphide (R,T)
P007 | 2763-96-4 | 5-(Aminomethyl)-3-isoxazolol
P007 | 2763-96-4 | 3(2H)-Isoxazolone, 5-(aminomethyl)-
P008 | 504-24-5 | 4-Aminopyridine
P008 | 504-24-5 | 4-Pyridinamine
P009 | 131-74-8 | Ammonium picrate (R)
P009 | 131-74-8 | Phenol, 2,4,6-trinitro-, ammonium salt (R)
P010 | 7778-39-4 | Arsenic acid H3 AsO4
P011 | 1303-28-2 | Arsenic oxide As2 O5
P011 | 1303-28-2 | Arsenic pentoxide
P012 | 1327-53-3 | Arsenic oxide As2 O3
P012 | 1327-53-3 | Arsenic trioxide
P013 | 542-62-1 | Barium cyanide
P014 | 108-98-5 | Benzenethiol
P014 | 108-98-5 | Thiophenol
P015 | 7440-41-7 | Beryllium powder
P016 | 542-88-1 | Dichloromethyl ether
P016 | 542-88-1 | Methane, oxybis[chloro-
P017 | 598-31-2 | Bromoacetone
P017 | 598-31-2 | 2-Propanone, 1-bromo-
P018 | 357-57-3 | Brucine
P018 | 357-57-3 | Strychnidin-10-one, 2,3-dimethoxy-
P020 | 88-85-7 | Dinoseb
P020 | 88-85-7 | Phenol, 2-(1-methylpropyl)-4,6-dinitro-
P021 | 592-01-8 | Calcium cyanide
P021 | 592-01-8 | Calcium cyanide Ca(CN)2
P022 | 75-15-0 | Carbon disulfide
P023 | 107-20-0 | Acetaldehyde, chloro-
P023 | 107-20-0 | Chloroacetaldehyde
P024 | 106-47-8 | Benzenamine, 4-chloro-
P024 | 106-47-8 | p-Chloroaniline
P026 | 5344-82-1 | 1-(o-Chlorophenyl)thiourea
P026 | 5344-82-1 | Thiourea, (2-chlorophenyl)-
P027 | 542-76-7 | 3-Chloropropionitrile
P027 | 542-76-7 | Propanenitrile, 3-chloro-
P028 | 100-44-7 | Benzene, (chloromethyl)-
P028 | 100-44-7 | Benzyl chloride
P029 | 544-92-3 | Copper cyanide
P029 | 544-92-3 | Copper cyanide Cu(CN)
P030 |  | Cyanides (soluble cyanide salts), not otherwise specified
P031 | 460-19-5 | Cyanogen
P031 | 460-19-5 | Ethanedinitrile
P033 | 506-77-4 | Cyanogen chloride
P033 | 506-77-4 | Cyanogen chloride (CN)Cl
P034 | 131-89-5 | 2-Cyclohexyl-4,6-dinitrophenol
P034 | 131-89-5 | Phenol, 2-cyclohexyl-4,6-dinitro-
P036 | 696-28-6 | Arsonous dichloride, phenyl-
P036 | 696-28-6 | Dichlorophenylarsine
P037 | 60-57-1 | Dieldrin
P037 | 60-57-1 | 2,7:3,6-Dimethanonaphth[2,3-b]oxirene, 3,4,5,6,9,9-hexachloro-1a,2,2a,3,6,6a,7,7a-octahydro-, (1aalpha,2beta,2aalpha,3beta,6beta,6aalpha,7beta, 7aalpha)-
P038 | 692-42-2 | Arsine, diethyl-
P038 | 692-42-2 | Diethylarsine
P039 | 298-04-4 | Disulfoton
P039 | 298-04-4 | Phosphorodithioic acid, O,O-diethyl S-[2-(ethylthio)ethyl] ester
P040 | 297-97-2 | O,O-Diethyl O-pyrazinyl phosphorothioate
P040 | 297-97-2 | Phosphorothioic acid, O,O-diethyl O-pyrazinyl ester
P041 | 311-45-5 | Diethyl-p-nitrophenyl phosphate
P041 | 311-45-5 | Phosphoric acid, diethyl 4-nitrophenyl ester
P042 | 51-43-4 | 1,2-Benzenediol, 4-[1-hydroxy-2-(methylamino)ethyl]-, (R)-
P042 | 51-43-4 | Epinephrine
P043 | 55-91-4 | Diisopropylfluorophosphate (DFP)
P043 | 55-91-4 | Phosphorofluoridic acid, bis(1-methylethyl) ester
P044 | 60-51-5 | Dimethoate
P044 | 60-51-5 | Phosphorodithioic acid, O,O-dimethyl S-[2-(methyl amino)-2-oxoethyl] ester
P045 | 39196-18-4 | 2-Butanone, 3,3-dimethyl-1-(methylthio)-, O-[(methylamino)carbonyl] oxime
P045 | 39196-18-4 | Thiofanox
P046 | 122-09-8 | Benzeneethanamine, alpha,alpha-dimethyl-
P046 | 122-09-8 | alpha,alpha-Dimethylphenethylamine
P047 | ¹ 534-52-1 | 4,6-Dinitro-o-cresol, & salts
P047 | ¹ 534-52-1 | Phenol, 2-methyl-4,6-dinitro-, & salts
P048 | 51-28-5 | 2,4-Dinitrophenol
P048 | 51-28-5 | Phenol, 2,4-dinitro-
P049 | 541-53-7 | Dithiobiuret
P049 | 541-53-7 | Thioimidodicarbonic diamide [(H2 N)C(S)]2 NH
P050 | 115-29-7 | Endosulfan
P050 | 115-29-7 | 6,9-Methano-2,4,3-benzodioxathiepin, 6,7,8,9,10,10-hexachloro-1,5,5a,6,9,9a-hexahydro-, 3-oxide
P051 | ¹ 72-20-8 | 2,7:3,6-Dimethanonaphth [2,3-b]oxirene, 3,4,5,6,9,9-hexachloro-1a,2,2a,3,6,6a,7,7a-octahydro-, (1aalpha,2beta,2abeta,3alpha,6alpha,6abeta,7beta, 7aalpha)-, & metabolites
P051 | 72-20-8 | Endrin
P051 | 72-20-8 | Endrin, & metabolites
P054 | 151-56-4 | Aziridine
P054 | 151-56-4 | Ethyleneimine
P056 | 7782-41-4 | Fluorine
P057 | 640-19-7 | Acetamide, 2-fluoro-
P057 | 640-19-7 | Fluoroacetamide
P058 | 62-74-8 | Acetic acid, fluoro-, sodium salt
P058 | 62-74-8 | Fluoroacetic acid, sodium salt
P059 | 76-44-8 | Heptachlor
P059 | 76-44-8 | 4,7-Methano-1H-indene, 1,4,5,6,7,8,8-heptachloro-3a,4,7,7a-tetrahydro-
P060 | 465-73-6 | 1,4,5,8-Dimethanonaphthalene, 1,2,3,4,10,10-hexa-chloro-1,4,4a,5,8,8a-hexahydro-, (1alpha,4alpha,4abeta,5beta,8beta,8abeta)-
P060 | 465-73-6 | Isodrin
P062 | 757-58-4 | Hexaethyl tetraphosphate
P062 | 757-58-4 | Tetraphosphoric acid, hexaethyl ester
P063 | 74-90-8 | Hydrocyanic acid
P063 | 74-90-8 | Hydrogen cyanide
P064 | 624-83-9 | Methane, isocyanato-
P064 | 624-83-9 | Methyl isocyanate
P065 | 628-86-4 | Fulminic acid, mercury(2+) salt (R,T)
P065 | 628-86-4 | Mercury fulminate (R,T)
P066 | 16752-77-5 | Ethanimidothioic acid, N-[[(methylamino)carbonyl]oxy]-, methyl ester
P066 | 16752-77-5 | Methomyl
P067 | 75-55-8 | Aziridine, 2-methyl-
P067 | 75-55-8 | 1,2-Propylenimine
P068 | 60-34-4 | Hydrazine, methyl-
P068 | 60-34-4 | Methyl hydrazine
P069 | 75-86-5 | 2-Methyllactonitrile
P069 | 75-86-5 | Propanenitrile, 2-hydroxy-2-methyl-
P070 | 116-06-3 | Aldicarb
P070 | 116-06-3 | Propanal, 2-methyl-2-(methylthio)-, O-[(methylamino)carbonyl]oxime
P071 | 298-00-0 | Methyl parathion
P071 | 298-00-0 | Phosphorothioic acid, O,O,-dimethyl O-(4-nitrophenyl) ester
P072 | 86-88-4 | alpha-Naphthylthiourea
P072 | 86-88-4 | Thiourea, 1-naphthalenyl-
P073 | 13463-39-3 | Nickel carbonyl
P073 | 13463-39-3 | Nickel carbonyl Ni(CO)4, (T-4)-
P074 | 557-19-7 | Nickel cyanide
P074 | 557-19-7 | Nickel cyanide Ni(CN)2
P075 | ¹ 54-11-5 | Nicotine, & salts
P075 | ¹ 54-11-5 | Pyridine, 3-(1-methyl-2-pyrrolidinyl)-, (S)-, & salts
P076 | 10102-43-9 | Nitric oxide
P076 | 10102-43-9 | Nitrogen oxide NO
P077 | 100-01-6 | Benzenamine, 4-nitro-
P077 | 100-01-6 | p-Nitroaniline
P078 | 10102-44-0 | Nitrogen dioxide
P078 | 10102-44-0 | Nitrogen oxide NO2
P081 | 55-63-0 | Nitroglycerine (R)
P081 | 55-63-0 | 1,2,3-Propanetriol, trinitrate (R)
P082 | 62-75-9 | Methanamine, -methyl-N-nitroso-
P082 | 62-75-9 | N-Nitrosodimethylamine
P084 | 4549-40-0 | N-Nitrosomethylvinylamine
P084 | 4549-40-0 | Vinylamine, -methyl-N-nitroso-
P085 | 152-16-9 | Diphosphoramide, octamethyl-
P085 | 152-16-9 | Octamethylpyrophosphoramide
P087 | 20816-12-0 | Osmium oxide OsO4, (T-4)-
P087 | 20816-12-0 | Osmium tetroxide
P088 | 145-73-3 | Endothall
P088 | 145-73-3 | 7-Oxabicyclo[2.2.1]heptane-2,3-dicarboxylic acid
P089 | 56-38-2 | Parathion
P089 | 56-38-2 | Phosphorothioic acid, O,O-diethyl O-(4-nitrophenyl) ester
P092 | 62-38-4 | Mercury, (acetato-O)phenyl-
P092 | 62-38-4 | Phenylmercury acetate
P093 | 103-85-5 | Phenylthiourea
P093 | 103-85-5 | Thiourea, phenyl-
P094 | 298-02-2 | Phorate
P094 | 298-02-2 | Phosphorodithioic acid, O,O-diethyl S-[(ethylthio)methyl] ester
P095 | 75-44-5 | Carbonic dichloride
P095 | 75-44-5 | Phosgene
P096 | 7803-51-2 | Hydrogen phosphide
P096 | 7803-51-2 | Phosphine
P097 | 52-85-7 | Famphur
P097 | 52-85-7 | Phosphorothioic acid, O-[4-[(dimethylamino)sulfonyl]phenyl] O,O-dimethyl ester
P098 | 151-50-8 | Potassium cyanide
P098 | 151-50-8 | Potassium cyanide K(CN)
P099 | 506-61-6 | Argentate(1-), bis(cyano-C)-, potassium
P099 | 506-61-6 | Potassium silver cyanide
P101 | 107-12-0 | Ethyl cyanide
P101 | 107-12-0 | Propanenitrile
P102 | 107-19-7 | Propargyl alcohol
P102 | 107-19-7 | 2-Propyn-1-ol
P103 | 630-10-4 | Selenourea
P104 | 506-64-9 | Silver cyanide
P104 | 506-64-9 | Silver cyanide Ag(CN)
P105 | 26628-22-8 | Sodium azide
P106 | 143-33-9 | Sodium cyanide
P106 | 143-33-9 | Sodium cyanide Na(CN)
P108 | ¹ 157-24-9 | Strychnidin-10-one, & salts
P108 | ¹ 157-24-9 | Strychnine, & salts
P109 | 3689-24-5 | Tetraethyldithiopyrophosphate
P109 | 3689-24-5 | Thiodiphosphoric acid, tetraethyl ester
P110 | 78-00-2 | Plumbane, tetraethyl-
P110 | 78-00-2 | Tetraethyl lead
P111 | 107-49-3 | Diphosphoric acid, tetraethyl ester
P111 | 107-49-3 | Tetraethyl pyrophosphate
P112 | 509-14-8 | Methane, tetranitro-(R)
P112 | 509-14-8 | Tetranitromethane (R)
P113 | 1314-32-5 | Thallic oxide
P113 | 1314-32-5 | Thallium oxide Tl2 O3
P114 | 12039-52-0 | Selenious acid, dithallium(1+) salt
P114 | 12039-52-0 | Tetraethyldithiopyrophosphate
P115 | 7446-18-6 | Thiodiphosphoric acid, tetraethyl ester
P115 | 7446-18-6 | Plumbane, tetraethyl-
P116 | 79-19-6 | Tetraethyl lead
P116 | 79-19-6 | Thiosemicarbazide
P118 | 75-70-7 | Methanethiol, trichloro-
P118 | 75-70-7 | Trichloromethanethiol
P119 | 7803-55-6 | Ammonium vanadate
P119 | 7803-55-6 | Vanadic acid, ammonium salt
P120 | 1314-62-1 | Vanadium oxide V2O5
P120 | 1314-62-1 | Vanadium pentoxide
P121 | 557-21-1 | Zinc cyanide
P121 | 557-21-1 | Zinc cyanide Zn(CN)2
P122 | 1314-84-7 | Zinc phosphide Zn3 P2, when present at concentrations greater than 10% (R,T)
P123 | 8001-35-2 | Toxaphene
P127 | 1563-66-2 | 7-Benzofuranol, 2,3-dihydro-2,2-dimethyl-, methylcarbamate.
P127 | 1563-66-2 | Carbofuran
P128 | 315-8-4 | Mexacarbate
P128 | 315-18-4 | Phenol, 4-(dimethylamino)-3,5-dimethyl-, methylcarbamate (ester)
P185 | 26419-73-8 | 1,3-Dithiolane-2-carboxaldehyde, 2,4-dimethyl-, O-[(methylamino)-carbonyl]oxime.
P185 | 26419-73-8 | Tirpate
P188 | 57-64-7 | Benzoic acid, 2-hydroxy-, compd. with (3aS-cis)-1,2,3,3a,8,8a-hexahydro-1,3a,8-trimethylpyrrolo[2,3-b]indol-5-yl methylcarbamate ester (1:1)
P188 | 57-64-7 | Physostigmine salicylate
P189 | 55285-14-8 | Carbamic acid, [(dibutylamino)-thio]methyl-, 2,3-dihydro-2,2-dimethyl-7-benzofuranyl ester
P189 | 55285-14-8 | Carbosulfan
P190 | 1129-41-5 | Carbamic acid, methyl-, 3-methylphenyl ester
P190 | 1129-41-5 | Metolcarb
P191 | 644-64-4 | Carbamic acid, dimethyl-, 1-[(dimethyl-amino)carbonyl]-5-methyl-1H-pyrazol-3-yl ester
P191 | 644-64-4 | Dimetilan
P192 | 119-38-0 | Carbamic acid, dimethyl-, 3-methyl-1-(1-methylethyl)-1H-pyrazol-5-yl ester
P192 | 119-38-0 | Isolan
P194 | 23135-22-0 | Ethanimidthioic acid, 2-(dimethylamino)-N-[[(methylamino) carbonyl]oxy]-2-oxo-, methyl ester
P194 | 23135-22-0 | Oxamyl
P196 | 15339-36-3 | Manganese, bis(dimethylcarbamodithioato-S,S′)-,
P196 | 15339-36-3 | Manganese dimethyldithiocarbamate
P197 | 17702-57-7 | Formparanate
P197 | 17702-57-7 | Methanimidamide, N,N-dimethyl-N′-[2-methyl-4-[[(methylamino)carbonyl]oxy]phenyl]-
P198 | 23422-53-9 | Formetanate hydrochloride
P198 | 23422-53-9 | Methanimidamide, N,N-dimethyl-N′-[3-[[(methylamino)-carbonyl]oxy]phenyl]-monohydrochloride
P199 | 2032-65-7 | Methiocarb
P199 | 2032-65-7 | Phenol, (3,5-dimethyl-4-(methylthio)-, methylcarbamate
P201 | 2631-37-0 | Phenol, 3-methyl-5-(1-methylethyl)-, methyl carbamate
P201 | 2631-37-0 | Promecarb
P202 | 64-00-6 | m-Cumenyl methylcarbamate
P202 | 64-00-6 | 3-Isopropylphenyl N-methylcarbamate
P202 | 64-00-6 | Phenol, 3-(1-methylethyl)-, methyl carbamate
P203 | 1646-88-4 | Aldicarb sulfone
P203 | 1646-88-4 | Propanal, 2-methyl-2-(methyl-sulfonyl)-, O-[(methylamino)carbonyl] oxime
P204 | 57-47-6 | Physostigmine
P204 | 57-47-6 | Pyrrolo[2,3-b]indol-5-ol, 1,2,3,3a,8,8a-hexahydro-1,3a,8-trimethyl-, methylcarbamate (ester), (3aS-cis)-
P205 | 137-30-4 | Zinc, bis(dimethylcarbamodithioato-S,S′)-,
P205 | 137-30-4 | Ziram
¹ CAS Number given for parent compound only.

* * * * *

(f) * * *

[Comment: * * * Wastes are first listed in alphabetical order by substance and then listed again in numerical order by Hazardous Waste Number.]

Numerical List
Hazardous Waste No. | Chemical abstracts No. | Substance
* * * * * * *
U226 | 71-55-6 | 1,1,1-Trichloroethane
* * * * * * *
U001 | 75-07-0 | Acetaldehyde (I)
U001 | 75-07-0 | Ethanal (I)
U002 | 67-64-1 | Acetone (I)
U002 | 67-64-1 | 2-Propanone (I)
U003 | 75-05-8 | Acetonitrile (I,T)
U004 | 98-86-2 | Acetophenone
U004 | 98-86-2 | Ethanone, 1-phenyl-
U005 | 53-96-3 | Acetamide, -9H-fluoren-2-yl-
U005 | 53-96-3 | 2-Acetylaminofluorene
U006 | 75-36-5 | Acetyl chloride (C,R,T)
U007 | 79-06-1 | Acrylamide
U007 | 79-06-1 | 2-Propenamide
U008 | 79-10-7 | Acrylic acid (I)
U008 | 79-10-7 | 2-Propenoic acid (I)
U009 | 107-13-1 | Acrylonitrile
U009 | 107-13-1 | 2-Propenenitrile
U010 | 50-07-7 | Azirino[2′,3′:3,4]pyrrolo[1,2-a]indole-4,7-dione, 6-amino-8-[[(aminocarbonyl)oxy]methyl]-1,1a,2,8,8a,8b-hexahydro-8a-methoxy-5-methyl-, [1aS-(1aalpha, 8beta,8aalpha,8balpha)]-
U010 | 50-07-7 | Mitomycin C
U011 | 61-82-5 | Amitrole
U011 | 61-82-5 | 1H-1,2,4-Triazol-3-amine
U012 | 62-53-3 | Aniline (I,T)
U012 | 62-53-3 | Benzenamine (I,T)
U014 | 492-80-8 | Auramine
U014 | 492-80-8 | Benzenamine, 4,4′-carbonimidoylbis[N,N-dimethyl-
U015 | 115-02-6 | Azaserine
U015 | 115-02-6 | L-Serine, diazoacetate (ester)
U016 | 225-51-4 | Benz[c]acridine
U017 | 98-87-3 | Benzal chloride
U017 | 98-87-3 | Benzene, (dichloromethyl)-
U018 | 56-55-3 | Benz[a]anthracene
U019 | 71-43-2 | Benzene (I,T)
U020 | 98-09-9 | Benzenesulfonic acid chloride (C,R)
U020 | 98-09-9 | Benzenesulfonyl chloride (C,R)
U021 | 92-87-5 | Benzidine
U021 | 92-87-5 | [1,1′-Biphenyl]-4,4′-diamine
U022 | 50-32-8 | Benzo[a]pyrene
U023 | 98-07-7 | Benzene, (trichloromethyl)-
U023 | 98-07-7 | Benzotrichloride (C,R,T)
U024 | 111-91-1 | Dichloromethoxy ethane
U024 | 111-91-1 | Ethane, 1,1′-[methylenebis(oxy)]bis[2-chloro-
U025 | 111-44-4 | Dichloroethyl ether
U025 | 111-44-4 | Ethane, 1,1′-oxybis[2-chloro-
U026 | 494-03-1 | Chlornaphazin
U026 | 494-03-1 | Naphthalenamine, N,N′-bis(2-chloroethyl)-
U027 | 108-60-1 | Dichloroisopropyl ether
U027 | 108-60-1 | Propane, 2,2′-oxybis[2-chloro-
U028 | 117-81-7 | 1,2-Benzenedicarboxylic acid, bis(2-ethylhexyl) ester
U028 | 117-81-7 | Diethylhexyl phthalate
U029 | 74-83-9 | Methane, bromo-
U029 | 74-83-9 | Methyl bromide
U030 | 101-55-3 | Benzene, 1-bromo-4-phenoxy-
U030 | 101-55-3 | 4-Bromophenyl phenyl ether
U031 | 71-36-3 | 1-Butanol (I)
U031 | 71-36-3 | n-Butyl alcohol (I)
U032 | 13765-19-0 | Calcium chromate
U032 | 13765-19-0 | Chromic acid H2 CrO4, calcium salt
U033 | 353-50-4 | Carbonic difluoride
U033 | 353-50-4 | Carbon oxyfluoride (R,T)
U034 | 75-87-6 | Acetaldehyde, trichloro-
U034 | 75-87-6 | Chloral
U035 | 305-03-3 | Benzenebutanoic acid, 4-[bis(2-chloroethyl)amino]-
U035 | 305-03-3 | Chlorambucil
U036 | 57-74-9 | Chlordane, alpha & gamma isomers
U036 | 57-74-9 | 4,7-Methano-1H-indene, 1,2,4,5,6,7,8,8-octachloro-2,3,3a,4,7,7a-hexahydro-
U037 | 108-90-7 | Benzene, chloro-
U037 | 108-90-7 | Chlorobenzene
U038 | 510-15-6 | Benzeneacetic acid, 4-chloro-alpha-(4-chlorophenyl)-alpha-hydroxy-, ethyl ester
U038 | 510-15-6 | Chlorobenzilate
U039 | 59-50-7 | p-Chloro-m-cresol
U039 | 59-50-7 | Phenol, 4-chloro-3-methyl-
U041 | 106-89-8 | Epichlorohydrin
U041 | 106-89-8 | Oxirane, (chloromethyl)-
U042 | 110-75-8 | 2-Chloroethyl vinyl ether
U042 | 110-75-8 | Ethene, (2-chloroethoxy)-
U043 | 75-01-4 | Ethene, chloro-
U043 | 75-01-4 | Vinyl chloride
U044 | 67-66-3 | Chloroform
U044 | 67-66-3 | Methane, trichloro-
U045 | 74-87-3 | Methane, chloro- (I,T)
U045 | 74-87-3 | Methyl chloride (I,T)
U046 | 107-30-2 | Chloromethyl methyl ether
U046 | 107-30-2 | Methane, chloromethoxy-
U047 | 91-58-7 | beta-Chloronaphthalene
U047 | 91-58-7 | Naphthalene, 2-chloro-
U048 | 95-57-8 | o-Chlorophenol
U048 | 95-57-8 | Phenol, 2-chloro-
U049 | 3165-93-3 | Benzenamine, 4-chloro-2-methyl-, hydrochloride
U049 | 3165-93-3 | 4-Chloro-o-toluidine, hydrochloride
U050 | 218-01-9 | Chrysene
U051 |  | Creosote
U052 | 1319-77-3 | Cresol (Cresylic acid)
U052 | 1319-77-3 | Phenol, methyl-
U053 | 4170-30-3 | 2-Butenal
U053 | 4170-30-3 | Crotonaldehyde
U055 | 98-82-8 | Benzene, (1-methylethyl)-(I)
U055 | 98-82-8 | Cumene (I)
U056 | 110-82-7 | Benzene, hexahydro-(I)
U056 | 110-82-7 | Cyclohexane (I)
U057 | 108-94-1 | Cyclohexanone (I)
U058 | 50-18-0 | Cyclophosphamide
U058 | 50-18-0 | 2H-1,3,2-Oxazaphosphorin-2-amine, N,N-bis(2-chloroethyl)tetrahydro-, 2-oxide
U059 | 20830-81-3 | Daunomycin
U059 | 20830-81-3 | 5,12-Naphthacenedione, 8-acetyl-10-[(3-amino-2,3,6-trideoxy)-alpha-L-lyxo-hexopyranosyl)oxy]-7,8,9,10-tetrahydro-6,8,11-trihydroxy-1-methoxy-, (8S-cis)-
U060 | 72-54-8 | Benzene, 1,1′-(2,2-dichloroethylidene)bis[4-chloro-
U060 | 72-54-8 | DDD
U061 | 50-29-3 | Benzene, 1,1′-(2,2,2-trichloroethylidene)bis[4-chloro-
U061 | 50-29-3 | DDT
U062 | 2303-16-4 | Carbamothioic acid, bis(1-methylethyl)-, S-(2,3-di chloro-2-propenyl) ester
U062 | 2303-16-4 | Diallate
U063 | 53-70-3 | Dibenz[a,h]anthracene
U064 | 189-55-9 | Benzo[rst]pentaphene
U064 | 189-55-9 | Dibenzo[a,i]pyrene
U066 | 96-12-8 | 1,2-Dibromo-3-chloropropane
U066 | 96-12-8 | Propane, 1,2-dibromo-3-chloro-
U067 | 106-93-4 | Ethane, 1,2-dibromo-
U067 | 106-93-4 | Ethylene dibromide
U068 | 74-95-3 | Methane, dibromo-
U068 | 74-95-3 | Methylene bromide
U069 | 84-74-2 | 1,2-Benzenedicarboxylic acid, dibutyl ester
U069 | 84-74-2 | Dibutyl phthalate
U070 | 95-50-1 | Benzene, 1,2-dichloro-
U070 | 95-50-1 | o-Dichlorobenzene
U071 | 541-73-1 | Benzene, 1,3-dichloro-
U071 | 541-73-1 | m-Dichlorobenzene
U072 | 106-46-7 | Benzene, 1,4-dichloro-
U072 | 106-46-7 | p-Dichlorobenzene
U073 | 91-94-1 | [1,1′-Biphenyl]-4,4′-diamine, 3,3′-dichloro-
U073 | 91-94-1 | 3,3′-Dichlorobenzidine
U074 | 764-41-0 | 2-Butene, 1,4-dichloro-(I,T)
U074 | 764-41-0 | 1,4-Dichloro-2-butene (I,T)
U075 | 75-71-8 | Dichlorodifluoromethane
U075 | 75-71-8 | Methane, dichlorodifluoro-
U076 | 75-34-3 | Ethane, 1,1-dichloro-
U076 | 75-34-3 | Ethylidene dichloride
U077 | 107-06-2 | Ethane, 1,2-dichloro-
U077 | 107-06-2 | Ethylene dichloride
U078 | 75-35-4 | 1,1-Dichloroethylene
U078 | 75-35-4 | Ethene, 1,1-dichloro-
U079 | 156-60-5 | 1,2-Dichloroethylene
U079 | 156-60-5 | Ethene, 1,2-dichloro-, (E)-
U080 | 75-09-2 | Methane, dichloro-
U080 | 75-09-2 | Methylene chloride
U081 | 120-83-2 | 2,4-Dichlorophenol
U081 | 120-83-2 | Phenol, 2,4-dichloro-
U082 | 87-65-0 | 2,6-Dichlorophenol
U082 | 87-65-0 | Phenol, 2,6-dichloro-
U083 | 78-87-5 | Propane, 1,2-dichloro-
U083 | 78-87-5 | Propylene dichloride
U084 | 542-75-6 | 1,3-Dichloropropene
U084 | 542-75-6 | 1-Propene, 1,3-dichloro-
U085 | 1464-53-5 | 2,2′-Bioxirane
U085 | 1464-53-5 | 1,2:3,4-Diepoxybutane (I,T)
U086 | 1615-80-1 | N,N′-Diethylhydrazine
U086 | 1615-80-1 | Hydrazine, 1,2-diethyl-
U087 | 3288-58-2 | O,O-Diethyl S-methyl dithiophosphate
U087 | 3288-58-2 | Phosphorodithioic acid, O,O-diethyl S-methyl ester
U088 | 84-66-2 | 1,2-Benzenedicarboxylic acid, diethyl ester
U088 | 84-66-2 | Diethyl phthalate
U089 | 56-53-1 | Diethylstilbesterol
U089 | 56-53-1 | Phenol, 4,4′-(1,2-diethyl-1,2-ethenediyl)bis-, (E)-
U090 | 94-58-6 | 1,3-Benzodioxole, 5-propyl-
U090 | 94-58-6 | Dihydrosafrole
U091 | 119-90-4 | [1,1′-Biphenyl]-4,4′-diamine, 3,3′-dimethoxy-
U091 | 119-90-4 | 3,3′-Dimethoxybenzidine
U092 | 124-40-3 | Dimethylamine (I)
U092 | 124-40-3 | Methanamine, -methyl-(I)
U093 | 60-11-7 | Benzenamine, N,N-dimethyl-4-(phenylazo)-
U093 | 60-11-7 | p-Dimethylaminoazobenzene
U094 | 57-97-6 | Benz[a]anthracene, 7,12-dimethyl-
U094 | 57-97-6 | 7,12-Dimethylbenz[a]anthracene
U095 | 119-93-7 | [1,1′-Biphenyl]-4,4′-diamine, 3,3′-dimethyl-
U095 | 119-93-7 | 3,3′-Dimethylbenzidine
U096 | 80-15-9 | alpha,alpha-Dimethylbenzylhydroperoxide (R)
U096 | 80-15-9 | Hydroperoxide, 1-methyl-1-phenylethyl-(R)
U097 | 79-44-7 | Carbamic chloride, dimethyl-
U097 | 79-44-7 | Dimethylcarbamoyl chloride
U098 | 57-14-7 | 1,1-Dimethylhydrazine
U098 | 57-14-7 | Hydrazine, 1,1-dimethyl-
U099 | 540-73-8 | 1,2-Dimethylhydrazine
U099 | 540-73-8 | Hydrazine, 1,2-dimethyl-
U101 | 105-67-9 | 2,4-Dimethylphenol
U101 | 105-67-9 | Phenol, 2,4-dimethyl-
U102 | 131-11-3 | 1,2-Benzenedicarboxylic acid, dimethyl ester
U102 | 131-11-3 | Dimethyl phthalate
U103 | 77-78-1 | Dimethyl sulfate
U103 | 77-78-1 | Sulfuric acid, dimethyl ester
U105 | 121-14-2 | Benzene, 1-methyl-2,4-dinitro-
U105 | 121-14-2 | 2,4-Dinitrotoluene
U106 | 606-20-2 | Benzene, 2-methyl-1,3-dinitro-
U106 | 606-20-2 | 2,6-Dinitrotoluene
U107 | 117-84-0 | 1,2-Benzenedicarboxylic acid, dioctyl ester
U107 | 117-84-0 | Di-n-octyl phthalate
U108 | 123-91-1 | 1,4-Diethyleneoxide
U108 | 123-91-1 | 1,4-Dioxane
U109 | 122-66-7 | 1,2-Diphenylhydrazine
U109 | 122-66-7 | Hydrazine, 1,2-diphenyl-
U110 | 142-84-7 | Dipropylamine (I)
U110 | 142-84-7 | 1-Propanamine, N-propyl-(I)
U111 | 621-64-7 | Di-n-propylnitrosamine
U111 | 621-64-7 | 1-Propanamine, N-nitroso-N-propyl-
U112 | 141-78-6 | Acetic acid ethyl ester (I)
U112 | 141-78-6 | Ethyl acetate (I)
U113 | 140-88-5 | Ethyl acrylate (I)
U113 | 140-88-5 | 2-Propenoic acid, ethyl ester (I)
U114 | ¹111-54-6 | Carbamodithioic acid, 1,2-ethanediylbis-, salts & esters
U114 | ¹111-54-6 | Ethylenebisdithiocarbamic acid, salts & esters
U115 | 75-21-8 | Ethylene oxide (I,T)
U115 | 75-21-8 | Oxirane (I,T)
U116 | 96-45-7 | Ethylenethiourea
U116 | 96-45-7 | 2-Imidazolidinethione
U117 | 60-29-7 | Ethane, 1,1′-oxybis-(I)
U117 | 60-29-7 | Ethyl ether (I)
U118 | 97-63-2 | Ethyl methacrylate
U118 | 97-63-2 | 2-Propenoic acid, 2-methyl-, ethyl ester
U119 | 62-50-0 | Ethyl methanesulfonate
U119 | 62-50-0 | Methanesulfonic acid, ethyl ester
U120 | 206-44-0 | Fluoranthene
U121 | 75-69-4 | Methane, trichlorofluoro-
U121 | 75-69-4 | Trichloromonofluoromethane
U122 | 50-00-0 | Formaldehyde
U123 | 64-18-6 | Formic acid (C,T)
U124 | 110-00-9 | Furan (I)
U124 | 110-00-9 | Furfuran (I)
U125 | 98-01-1 | 2-Furancarboxaldehyde (I)
U125 | 98-01-1 | Furfural (I)
U126 | 765-34-4 | Glycidylaldehyde
U126 | 765-34-4 | Oxiranecarboxyaldehyde
U127 | 118-74-1 | Benzene, hexachloro-
U127 | 118-74-1 | Hexachlorobenzene
U128 | 87-68-3 | 1,3-Butadiene, 1,1,2,3,4,4-hexachloro-
U128 | 87-68-3 | Hexachlorobutadiene
U129 | 58-89-9 | Cyclohexane, 1,2,3,4,5,6-hexachloro-, (1alpha,2alpha,3beta,4alpha,5alpha,6beta)-
U129 | 58-89-9 | Lindane
U130 | 77-47-4 | 1,3-Cyclopentadiene, 1,2,3,4,5,5-hexachloro-
U130 | 77-47-4 | Hexachlorocyclopentadiene
U131 | 67-72-1 | Ethane, hexachloro-
U131 | 67-72-1 | Hexachloroethane
U132 | 70-30-4 | Hexachlorophene
U132 | 70-30-4 | Phenol, 2,2′-methylenebis[3,4,6-trichloro-
U133 | 302-01-2 | Hydrazine (R,T)
U134 | 7664-39-3 | Hydrofluoric acid (C,T)
U134 | 7664-39-3 | Hydrogen fluoride (C,T)
U135 | 7783-06-4 | Hydrogen sulfide
U135 | 7783-06-4 | Hydrogen sulfide H2S
U136 | 75-60-5 | Arsinic acid, dimethyl-
U136 | 75-60-5 | Cacodylic acid
U137 | 193-39-5 | Indeno[1,2,3-cd]pyrene
U138 | 74-88-4 | Methane, iodo-
U138 | 74-88-4 | Methyl iodide
U140 | 78-83-1 | Isobutyl alcohol (I,T)
U140 | 78-83-1 | 1-Propanol, 2-methyl- (I,T)
U141 | 120-58-1 | 1,3-Benzodioxole, 5-(1-propenyl)-
U141 | 120-58-1 | Isosafrole
U142 | 143-50-0 | Kepone
U142 | 143-50-0 | 1,3,4-Metheno-2H-cyclobuta[cd]pentalen-2-one, 1,1a,3,3a,4,5,5,5a,5b,6-decachlorooctahydro-
U143 | 303-34-4 | 2-Butenoic acid, 2-methyl-, 7-[[2,3-dihydroxy-2-(1-methoxyethyl)-3-methyl-1-oxobutoxy]methyl]-2,3,5,7a-tetrahydro-1H-pyrrolizin-1-yl ester, [1S-[1alpha(Z),7(2S*,3R*),7aalpha]]-
U143 | 303-34-4 | Lasiocarpine
U144 | 301-04-2 | Acetic acid, lead(2+) salt
U144 | 301-04-2 | Lead acetate
U145 | 7446-27-7 | Lead phosphate
U145 | 7446-27-7 | Phosphoric acid, lead(2+) salt (2:3)
U146 | 1335-32-6 | Lead, bis(acetato-O)tetrahydroxytri-
U146 | 1335-32-6 | Lead subacetate
U147 | 108-31-6 | 2,5-Furandione
U147 | 108-31-6 | Maleic anhydride
U148 | 123-33-1 | Maleic hydrazide
U148 | 123-33-1 | 3,6-Pyridazinedione, 1,2-dihydro-
U149 | 109-77-3 | Malononitrile
U149 | 109-77-3 | Propanedinitrile
U150 | 148-82-3 | Melphalan
U150 | 148-82-3 | L-Phenylalanine, 4-[bis(2-chloroethyl)amino]-
U151 | 7439-97-6 | Mercury
U152 | 126-98-7 | Methacrylonitrile (I,T)
U152 | 126-98-7 | 2-Propenenitrile, 2-methyl- (I,T)
U153 | 74-93-1 | Methanethiol (I,T)
U153 | 74-93-1 | Thiomethanol (I,T)
U154 | 67-56-1 | Methanol (I)
U154 | 67-56-1 | Methyl alcohol (I)
U155 | 91-80-5 | 1,2-Ethanediamine, N,N-dimethyl-N′-2-pyridinyl-N′-(2-thienylmethyl)-
U155 | 91-80-5 | Methapyrilene
U156 | 79-22-1 | Carbonochloridic acid, methyl ester (I,T)
U156 | 79-22-1 | Methyl chlorocarbonate (I,T)
U157 | 56-49-5 | Benz[j]aceanthrylene, 1,2-dihydro-3-methyl-
U157 | 56-49-5 | 3-Methylcholanthrene
U158 | 101-14-4 | Benzenamine, 4,4′-methylenebis[2-chloro-
U158 | 101-14-4 | 4,4′-Methylenebis(2-chloroaniline)
U159 | 78-93-3 | 2-Butanone (I,T)
U159 | 78-93-3 | Methyl ethyl ketone (MEK) (I,T)
U160 | 1338-23-4 | 2-Butanone, peroxide (R,T)
U160 | 1338-23-4 | Methyl ethyl ketone peroxide (R,T)
U161 | 108-10-1 | Methyl isobutyl ketone (I)
U161 | 108-10-1 | 4-Methyl-2-pentanone (I)
U161 | 108-10-1 | Pentanol, 4-methyl-
U162 | 80-62-6 | Methyl methacrylate (I,T)
U162 | 80-62-6 | 2-Propenoic acid, 2-methyl-, methyl ester (I,T)
U163 | 70-25-7 | Guanidine, -methyl-N'-nitro-N-nitroso-
U163 | 70-25-7 | MNNG
U164 | 56-04-2 | Methylthiouracil
U164 | 56-04-2 | 4(1H)-Pyrimidinone, 2,3-dihydro-6-methyl-2-thioxo-
U165 | 91-20-3 | Naphthalene
U166 | 130-15-4 | 1,4-Naphthalenedione
U166 | 130-15-4 | 1,4-Naphthoquinone
U167 | 134-32-7 | 1-Naphthalenamine
U167 | 134-32-7 | alpha-Naphthylamine
U168 | 91-59-8 | 2-Naphthalenamine
U168 | 91-59-8 | beta-Naphthylamine
U169 | 98-95-3 | Benzene, nitro-
U169 | 98-95-3 | Nitrobenzene (I,T)
U170 | 100-02-7 | p-Nitrophenol
U170 | 100-02-7 | Phenol, 4-nitro-
U171 | 79-46-9 | 2-Nitropropane (I,T)
U171 | 79-46-9 | Propane, 2-nitro- (I,T)
U172 | 924-16-3 | 1-Butanamine, N-butyl-N-nitroso-
U172 | 924-16-3 | N-Nitrosodi-n-butylamine
U173 | 1116-54-7 | Ethanol, 2,2′-(nitrosoimino)bis-
U173 | 1116-54-7 | N-Nitrosodiethanolamine
U174 | 55-18-5 | Ethanamine, -ethyl-N-nitroso-
U174 | 55-18-5 | N-Nitrosodiethylamine
U176 | 759-73-9 | N-Nitroso-N-ethylurea
U176 | 759-73-9 | Urea, N-ethyl-N-nitroso-
U177 | 684-93-5 | N-Nitroso-N-methylurea
U177 | 684-93-5 | Urea, N-methyl-N-nitroso-
U178 | 615-53-2 | Carbamic acid, methylnitroso-, ethyl ester
U178 | 615-53-2 | N-Nitroso-N-methylurethane
U179 | 100-75-4 | N-Nitrosopiperidine
U179 | 100-75-4 | Piperidine, 1-nitroso-
U180 | 930-55-2 | N-Nitrosopyrrolidine
U180 | 930-55-2 | Pyrrolidine, 1-nitroso-
U181 | 99-55-8 | Benzenamine, 2-methyl-5-nitro-
U181 | 99-55-8 | 5-Nitro-o-toluidine
U182 | 123-63-7 | 1,3,5-Trioxane, 2,4,6-trimethyl-
U182 | 123-63-7 | Paraldehyde
U183 | 608-93-5 | Benzene, pentachloro-
U183 | 608-93-5 | Pentachlorobenzene
U184 | 76-01-7 | Ethane, pentachloro-
U184 | 76-01-7 | Pentachloroethane
U185 | 82-68-8 | Benzene, pentachloronitro-
U185 | 82-68-8 | Pentachloronitrobenzene (PCNB)
U186 | 504-60-9 | 1-Methylbutadiene (I)
U186 | 504-60-9 | 1,3-Pentadiene (I)
U187 | 62-44-2 | Acetamide, -(4-ethoxyphenyl)-
U187 | 62-44-2 | Phenacetin
U188 | 108-95-2 | Phenol
U189 | 1314-80-3 | Phosphorus sulfide (R)
U189 | 1314-80-3 | Sulfur phosphide (R)
U190 | 85-44-9 | 1,3-Isobenzofurandione
U190 | 85-44-9 | Phthalic anhydride
U191 | 109-06-8 | 2-Picoline
U191 | 109-06-8 | Pyridine, 2-methyl-
U192 | 23950-58-5 | Benzamide, 3,5-dichloro-N-(1,1-dimethyl-2-propynyl)-
U192 | 23950-58-5 | Pronamide
U193 | 1120-71-4 | 1,2-Oxathiolane, 2,2-dioxide
U193 | 1120-71-4 | 1,3-Propane sultone
U194 | 107-10-8 | 1-Propanamine (I,T)
U194 | 107-10-8 | n-Propylamine (I,T)
U196 | 110-86-1 | Pyridine
U197 | 106-51-4 | p-Benzoquinone
U197 | 106-51-4 | 2,5-Cyclohexadiene-1,4-dione
U200 | 50-55-5 | Reserpine
U200 | 50-55-5 | Yohimban-16-carboxylic acid, 11,17-dimethoxy-18-[(3,4,5-trimethoxybenzoyl)oxy]-, methyl ester,(3beta,16beta,17alpha,18beta,20alpha)-
U201 | 108-46-3 | 1,3-Benzenediol
U201 | 108-46-3 | Resorcinol
U202 | 181-07-2 | 1,2-Benzisothiazol-3(2H)-one, 1,1-dioxide, & salts
U202 | 181-07-2 | Saccharin, & salts
U203 | 94-59-7 | 1,3-Benzodioxole, 5-(2-propenyl)-
U203 | 94-59-7 | Safrole
U204 | 7783-00-8 | Selenious acid
U204 | 7783-00-8 | Selenium dioxide
U205 | 7488-56-4 | Selenium sulfide
U205 | 7488-56-4 | Selenium sulfide SeS2 (R,T)
U206 | 18883-66-4 | Glucopyranose, 2-deoxy-2-(3-methyl-3-nitrosoureido)-, D-
U206 | 18883-66-4 | D-Glucose, 2-deoxy-2-[[(methylnitrosoamino)-carbonyl]amino]-
U206 | 18883-66-4 | Streptozotocin
U207 | 95-94-3 | Benzene, 1,2,4,5-tetrachloro-
U207 | 95-94-3 | 1,2,4,5-Tetrachlorobenzene
U208 | 630-20-6 | Ethane, 1,1,1,2-tetrachloro-
U208 | 630-20-6 | 1,1,1,2-Tetrachloroethane
U209 | 79-34-5 | Ethane, 1,1,2,2-tetrachloro-
U209 | 79-34-5 | 1,1,2,2-Tetrachloroethane
U210 | 127-18-4 | Ethene, tetrachloro-
U210 | 127-18-4 | Tetrachloroethylene
U211 | 56-23-5 | Carbon tetrachloride
U211 | 56-23-5 | Methane, tetrachloro-
U213 | 109-99-9 | Furan, tetrahydro-(I)
U213 | 109-99-9 | Tetrahydrofuran (I)
U214 | 563-68-8 | Acetic acid, thallium(1+) salt
U214 | 563-68-8 | Thallium(I) acetate
U215 | 6533-73-9 | Carbonic acid, dithallium(1+) salt
U215 | 6533-73-9 | Thallium(I) carbonate
U216 | 7791-12-0 | Thallium(I) chloride
U216 | 7791-12-0 | Thallium chloride TlCl
U217 | 10102-45-1 | Nitric acid, thallium(1+) salt
U217 | 10102-45-1 | Thallium(I) nitrate
U218 | 62-55-5 | Ethanethioamide
U218 | 62-55-5 | Thioacetamide
U219 | 62-56-6 | Thiourea
U220 | 108-88-3 | Benzene, methyl-
U220 | 108-88-3 | Toluene
U221 | 25376-45-8 | Benzenediamine, ar-methyl-
U221 | 25376-45-8 | Toluenediamine
U222 | 636-21-5 | Benzenamine, 2-methyl-, hydrochloride
U222 | 636-21-5 | o-Toluidine hydrochloride
U223 | 26471-62-5 | Benzene, 1,3-diisocyanatomethyl- (R,T)
U223 | 26471-62-5 | Toluene diisocyanate (R,T)
U225 | 75-25-2 | Bromoform
U225 | 75-25-2 | Methane, tribromo-
U226 | 71-55-6 | Ethane, 1,1,1-trichloro-
U226 | 71-55-6 | Methyl chloroform
U226 | 71-55-6 | 1,1,1-Trichloroethane
U227 | 79-00-5 | Ethane, 1,1,2-trichloro-
U227 | 79-00-5 | 1,1,2-Trichloroethane
U228 | 79-01-6 | Ethene, trichloro-
U228 | 79-01-6 | Trichloroethylene
U234 | 99-35-4 | Benzene, 1,3,5-trinitro-
U234 | 99-35-4 | 1,3,5-Trinitrobenzene (R,T)
U235 | 126-72-7 | 1-Propanol, 2,3-dibromo-, phosphate (3:1)
U235 | 126-72-7 | Tris(2,3-dibromopropyl) phosphate
U236 | 72-57-1 | 2,7-Naphthalenedisulfonic acid, 3,3′-[(3,3′-dimethyl[1,1′-biphenyl]-4,4′-diyl)bis(azo)bis[5-amino-4-hydroxy]-, tetrasodium salt
U236 | 72-57-1 | Trypan blue
U237 | 66-75-1 | 2,4-(1H,3H)-Pyrimidinedione, 5-[bis(2-chloroethyl)amino]-
U237 | 66-75-1 | Uracil mustard
U238 | 51-79-6 | Carbamic acid, ethyl ester
U238 | 51-79-6 | Ethyl carbamate (urethane)
U239 | 1330-20-7 | Benzene, dimethyl- (I,T)
U239 | 1330-20-7 | Xylene (I)
U240 | ¹ 94-75-7 | Acetic acid, (2,4-dichlorophenoxy)-, salts & esters
U240 | ¹ 94-75-7 | 2,4-D, salts & esters
U243 | 1888-71-7 | Hexachloropropene
U243 | 1888-71-7 | 1-Propene, 1,1,2,3,3,3-hexachloro-
U244 | 137-26-8 | Thioperoxydicarbonic diamide [(H2N)C(S)]2 S2, tetramethyl-
U244 | 137-26-8 | Thiram
U246 | 506-68-3 | Cyanogen bromide (CN)Br
U247 | 72-43-5 | Benzene, 1,1′-(2,2,2-trichloroethylidene)bis[4- methoxy-
U247 | 72-43-5 | Methoxychlor
U248 | ¹ 81-81-2 | 2H-1-Benzopyran-2-one, 4-hydroxy-3-(3-oxo-1-phenyl-butyl)-, & salts, when present at concentrations of 0.3% or less
U248 | ¹ 81-81-2 | Warfarin, & salts, when present at concentrations of 0.3% or less
U249 | 1314-84-7 | Zinc phosphide Zn3 P2, when present at concentrations of 10% or less
U271 | 17804-35-2 | Benomyl
U271 | 17804-35-2 | Carbamic acid, [1-[(butylamino)carbonyl]-1H-benzimidazol-2-yl]-, methyl ester
U278 | 22781-23-3 | Bendiocarb
U278 | 22781-23-3 | 1,3-Benzodioxol-4-ol, 2,2-dimethyl-, methyl carbamate
U279 | 63-25-2 | Carbaryl
U279 | 63-25-2 | 1-Naphthalenol, methylcarbamate
U280 | 101-27-9 | Barban
U280 | 101-27-9 | Carbamic acid, (3-chlorophenyl)-, 4-chloro-2-butynyl ester
U328 | 95-53-4 | Benzenamine, 2-methyl-
U328 | 95-53-4 | o-Toluidine
U353 | 106-49-0 | Benzenamine, 4-methyl-
U353 | 106-49-0 | p-Toluidine
U359 | 110-80-5 | Ethanol, 2-ethoxy-
U359 | 110-80-5 | Ethylene glycol monoethyl ether
U364 | 22961-82-6 | Bendiocarb phenol
U364 | 22961-82-6 | 1,3-Benzodioxol-4-ol, 2,2-dimethyl-,
U367 | 1563-38-8 | 7-Benzofuranol, 2,3-dihydro-2,2-dimethyl-
U367 | 1563-38-8 | Carbofuran phenol
U372 | 10605-21-7 | Carbamic acid, 1H-benzimidazol-2-yl, methyl ester
U372 | 10605-21-7 | Carbendazim
U373 | 122-42-9 | Carbamic acid, phenyl-, 1-methylethyl ester
U373 | 122-42-9 | Propham
U387 | 52888-80-9 | Carbamothioic acid, dipropyl-, S-(phenylmethyl) ester
U387 | 52888-80-9 | Prosulfocarb
U389 | 2303-17-5 | Carbamothioic acid, bis(1-methylethyl)-, S-(2,3,3-trichloro-2-propenyl) ester
U389 | 2303-17-5 | Triallate
U394 | 30558-43-1 | A2213
U394 | 30558-43-1 | Ethanimidothioic acid, 2-(dimethylamino)-N-hydroxy-2-oxo-, methyl ester
U395 | 5952-26-1 | Diethylene glycol, dicarbamate
U395 | 5952-26-1 | Ethanol, 2,2′-oxybis-, dicarbamate
U404 | 121-44-8 | Ethanamine, N,N-diethyl-
U404 | 121-44-8 | Triethylamine
U409 | 23564-05-8 | Carbamic acid, [1,2-phenylenebis (iminocarbonothioyl)]bis-, dimethyl ester
U409 | 23564-05-8 | Thiophanate-methyl
U410 | 59669-26-0 | Ethanimidothioic acid, N,N′-[thiobis[(methylimino)carbonyloxy]]bis-, dimethyl ester
U410 | 59669-26-0 | Thiodicarb
U411 | 114-26-1 | Phenol, 2-(1-methylethoxy)-, methylcarbamate
U411 | 114-26-1 | Propoxur
See F027 | 93-76-5 | Acetic acid, (2,4,5-trichlorophenoxy)-
See F027 | 87-86-5 | Pentachlorophenol
See F027 | 87-86-5 | Phenol, pentachloro-
See F027 | 58-90-2 | Phenol, 2,3,4,6-tetrachloro-
See F027 | 95-95-4 | Phenol, 2,4,5-trichloro-
See F027 | 88-06-2 | Phenol, 2,4,6-trichloro-
See F027 | 93-72-1 | Propanoic acid, 2-(2,4,5-trichlorophenoxy)-
See F027 | 93-72-1 | Silvex (2,4,5-TP)
See F027 | 93-76-5 | 2,4,5-T
See F027 | 58-90-2 | 2,3,4,6-Tetrachlorophenol
See F027 | 95-95-4 | 2,4,5-Trichlorophenol
See F027 | 88-06-2 | 2,4,6-Trichlorophenol
¹ CAS Number given for parent compound only.

§ 261.38 [Amended]

16-21. Amend § 261.38 as follows:

a. In Table 1 to § 261.38, revise the column one subheading “Halogenated Organic:” to read “Halogenated Organics:”; and under “Halogenated Organics:”, insert a closing bracket “]” after the chemical name “Dichloromethoxy ethane [Bis(2-chloroethoxy)methane”.

b. Amend the certification statement in paragraph (c)(1)(i)(C)(4) by revising the citation “40 CFR 261.28(c)(10)” to read “40 CFR 261.38(c)(10)”.

Appendix VII to Part 261—[Amended]

22-23. In Part 261 Appendix VII, amend the entries for “F002”, “F038”, “F039”, “K001”, and “K073” as follows:

a. In the second column of the “F002” row, revise “trichfluoroethane” to read “trifluoroethane”;

b. In the second column of the “F038” row, add a comma between “benzo(a)pyrene” and “chrysene” to read “benzo(a)pyrene, chrysene”;

c. In the second column of the “F039” row, revise the citation “40 CFR 268.43(a)” to read “40 CFR 268.43”;

d. In the second column of the “K001” row, revise “cresosote” to read “creosote”;

e. In the second column of the “K073” row, revise “hexacholroethane” to read “hexachloroethane”.

Appendix VIII to Part 261—[Amended]

24. Amend Part 261 Appendix VIII by amending the entries for “Allyl chloride”, “Benzidine”, § 1,2-Dichloroethylene”, “Lasiocarpine”, and “Nitrosamines, N.O.S.” to read as follows:

a. In the third column of the “Allyl chloride” row, revise “107-18-6” to read “107-05-1”;

b. In the second column of the “Benzidine” row, amend “-4,4¹-” by changing the superscript “1” to the symbol “'” to read, “-4,4'-”;

c. In the second column of the “1,2-Dichloroethylene” row, revise “-dichlrol-” to read “-dichloro-”;

d. In the third and fourth columns of the “Lasiocarpine” row, revise “303-34-1” to read “303-34-4”; and revise “4143” to read “U143”;

e. In the third column of the “Nitrosamines, N.O.S.” row, revise “35576-91-1D” to read “35576-91-1”.

PART 262—STANDARDS APPLICABLE TO GENERATORS OF HAZARDOUS WASTE

25. The authority citation for part 262 continues to read as follows:

Authority: 42 U.S.C. 6906, 6912, 6922-6925, 6937, and 6938.

§ 262.34 [Amended]

26. Amend § 262.34(a)(1)(iv) by removing the beginning phrase “The waste is placed in containment buildings” and adding in its place the phrase “In containment buildings”.

27. Section 262.53 is amended by revising paragraph (b) to read as follows:

§ 262.53 Notification of Intent to Export.

* * * * *

(b) Notifications submitted by mail should be sent to the following mailing address: Office of Enforcement and Compliance Assurance, Office of Federal Activities, International Compliance Assurance Division (2254A), Environmental Protection Agency, 1200 Pennsylvania Ave., NW., Washington, DC 20460. Hand-delivered notifications should be sent to: Office of Enforcement and Compliance Assurance, Office of Federal Activities, International Compliance Assurance Division, Environmental Protection Agency, Ariel Rios Bldg., Room 6144, 12th St. and Pennsylvania Ave., NW., Washington, DC 20004. In both cases, the following shall be prominently displayed on the front of the envelope: “Attention: Notification of Intent to Export.”.

* * * * *

28. Section 262.56 is amended by revising paragraph (b) to read as follows:

§ 262.56 Annual Reports.

* * * * *

(b) Annual reports submitted by mail should be sent to the following mailing address: Office of Enforcement and Compliance Assurance, Office of Federal Activities, International Compliance Assurance Division (2254A), Environmental Protection Agency, 1200 Pennsylvania Ave., NW., Washington, DC 20460. Hand-delivered reports should be sent to: Office of Enforcement and Compliance Assurance, Office of Federal Activities, International Compliance Assurance Division, Environmental Protection Agency, Ariel Rios Bldg., Room 6144, 12th St. and Pennsylvania Ave., NW., Washington, DC 20004.

29. Section 262.58 is amended by revising paragraph (a)(1) to read as follows:

§ 262.58 International Agreements.

(a) * * *

(1) For the purposes of subpart H, the designated OECD Member countries consist of Australia, Austria, Belgium, the Czech Republic, Denmark, Finland, France, Germany, Greece, Hungary, Iceland, Ireland, Italy, Japan, Luxembourg, the Netherlands, New Zealand, Norway, Poland, Portugal, the Slovak Republic, South Korea, Spain, Sweden, Switzerland, Turkey, the United Kingdom, and the United States.

* * * * *

§ 262.70 [Amended]

30. Amend § 262.70 by revising the word “consisent” to read “consistent”.

§ 262.81 [Amended]

31. In § 262.81, amend paragraph (k) by revising “RCRA Information Center (RIC), 1235 Jefferson-Davis Highway, first floor, Arlington, VA 22203” to read “RCRA Docket, EPA/DC, EPA West, Room B102, 1301 Constitution Ave., NW., Washington, DC 20460”.

§ 262.82 [Amended]

32. In § 262.82, amend paragraph (a)(1)(ii) by revising the phrase “Green-list waste” to read “Green-list wastes”.

33. Amend § 262.83 as follows:

a. Amend paragraph (b)(1)(i) by revising “Office of Compliance, Enforcement Planning, Targeting and Data Division (2222A)” to read “Office of Federal Activities, International Compliance Assurance Division (2254A)”.

b. Revise paragraph (b)(2)(i) to read as follows:

§ 262.83 Notification and consent.

* * * * *

(b) * * *

(2) * * *

(i) The notifier must provide EPA the information identified in paragraph (e) of this section in English, at least 10 days in advance of commencing shipment to a pre-approved facility. The notification should indicate that the recovery facility is pre-approved, and may apply to a single specific shipment or to multiple shipments as described in paragraph (b)(1)(i) of this section. This information must be sent to the Office of Enforcement and Compliance Assurance, Office of Federal Activities, International Compliance Assurance Division (2254A), Environmental Protection Agency, 1200 Pennsylvania Ave., NW., Washington, DC 20460, with the words “Attention: OECD Export Notification—Pre-approved Facility” prominently displayed on the envelope.

* * * * *

34-35. Section 262.84 is amended by revising paragraph (e) to read as follows:

§ 262.84 Tracking document.

* * * * *

(e) Within three working days of the receipt of imports subject to this Subpart, the owner or operator of the U.S. recovery facility must send signed copies of the tracking document to the notifier, to the Office of Enforcement and Compliance Assurance, Office of Federal Activities, International Compliance Assurance Division (2254A), Environmental Protection Agency, 1200 Pennsylvania Ave., NW., Washington, DC 20460, and to the competent authorities of the exporting and transit countries.

§ 262.87 [Amended]

36. Amend § 262.87 as follows:

a. In paragraph (a) revise “Office of Compliance, Enforcement Planning, Targeting and Data Division (2222A)”, to read, “Office of Federal Activities, International Compliance Assurance Division (2254A)”;

b. Amend paragraph (a)(5) introductory text by inserting a space in “100kg” and “1000kg” to read “100 kg” and “1000 kg”.

§ 262.90 [Amended]

37.-38. Amend § 262.90 in paragraph (c)(2)(vii) by revising “newpaper” to read “newspaper”; and in paragraph (d)(2) by revising “directed.This” by adding a space after the period to read “directed. This”.

PART 264—STANDARDS FOR OWNERS AND OPERATORS OF HAZARDOUS WASTE TREATMENT, STORAGE, AND DISPOSAL FACILITIES

39.-40. The authority citation for Part 264 continues to read as follows:

Authority: 42 U.S.C. 6905, 6912(a), 6924 and 6925.

§ 264.1 [Amended]

41. In § 264.1, amend paragraph (g)(2) by revising “subparts C, D, F, or G” to read “subparts C, F, G, or H”.

§ 264.4 [Amended]

42. Amend § 264.4 by revising “purusant” to read “pursuant”.

§ 264.13 [Amended]

43. In § 264.13, amend paragraph (b)(7)(iii)(B) by revising the semicolon at the end of the subsection into a colon.

§ 264.17 [Amended]

44. In § 264.17, amend paragraph (b) introductory text by revising the word “reactons” to read “reactions”.

§ 264.18 [Amended]

45. In § 264.18, amend paragraph (a)(2)(iii) by revising “Quarternary” to read “Quaternary”; and amend paragraph (b)(2)(iii) by revising “exeeded” to read “exceeded”.

§ 264.97 [Amended]

46. Amend § 264.97 as follows:

a. In paragraph (a)(1) introductory text, revise “background water” to read “background ground water”;

b. In paragraph (a)(1)(i), revise “background quality” to read “background ground-water quality”;

c. In paragraph (i)(5), revise “tha can be” to read “that can be”.

§ 264.98 [Amended]

47. Amend § 264.98 as follows:

a. In paragraph (a)(2), revise “persistance” to read “persistence”;

b. In paragraph (g)(4)(i), revise “concentration or any” to read “concentration of any”.

§ 264.99 [Amended]

48. In § 264.99, amend paragraph (h)(2) introductory text, by revising the citation “§ 264.98(h)(5)” to read “§ 264.98(g)(5)”.

§ 264.101 [Amended]

49. In § 264.101, amend paragraph (d) by revising the phrase “This does not apply” to read “This section does not apply”.

§ 264.111 [Amended]

50. In § 264.111, amend paragraph (c) by revising the word “subpart” to read “part”.

§ 264.112 [Amended]

51. In § 264.112, amend paragraph (b)(8) by revising the citation “264.110(d)” to read “264.110(c)”.

§ 264.115 [Amended]

52. Amend § 264.115 by eliminating the second period at the end of the first sentence.

§ 264.116 [Amended]

53. Amend § 264.116 by revising “landfills cells” to read “landfill cells”.

§ 264.118 [Amended]

54. In § 264.118, amend paragraph (c) by revising the citation “§ 264.188(b)(3)” to read “§ 264.118(b)(3)”.

§ 264.119 [Amended]

55. In § 264.119, amend paragraph (b)(1)(ii) by revising the citation “40 CFR subpart G” to read “40 CFR part 264, subpart G”.

§ 264.140 [Amended]

56. In § 264.140, amend paragraph (d)(1) by revising the citation “§ 264.110(d)” to read “§ 264.110(c)”.

§ 264.142 [Amended]

57. In § 264.142, amend paragraph (b)(2) by revising “mutliplying” to read “multiplying”.

§ 264.143 [Amended]

58. Amend § 264.143 as follows:

a. In paragraph (b)(7), revise “then the penal sum” to read “than the penal sum”;

b. In paragraph (b)(8), revise “as evidence by” to read “as evidenced by”;

c. In paragraph (e)(5), revise “signficantly” to read “significantly”.

§ 264.145 [Amended]

59. Amend § 264.145 as follows:

a. In paragraph (a)(3)(i), revise “anniversay” to read “anniversary”;

b. In paragraph (d)(6), revise “issued in a amount” to read “issued in an amount”;

c. In paragraph (f)(11) introductory text, revise “for this section” to read “of this section”; and revise “the direct of higher-tier” to read “the direct or higher-tier”.

§ 264.147 [Amended]

60. In § 264.147, amend paragraph (h)(1) by revising “letter or credit” to read “letter of credit”.

§ 264.151 [Amended]

61. Amend § 264.151 as follows:

a. In paragraph (b), in the section “Corporate Surety(ies),” remove the bracket (]) after “State of incorporation”;

b. In paragraph (f) introductory paragraph, revise the second occurrence of the citation “265.143(e)” to read “265.145(e)”;

c. In paragraph (g), in the fifth paragraph of the LETTER FROM CHIEF FINANCIAL OFFICER, revise ““nonsudden” of” to read ““nonsudden” or”;

d. In paragraph (g), in Item 3. of the LETTER FROM CHIEF FINANCIAL OFFICER, revise “subpart H or 40 CFR” to read “subpart H of 40 CFR”;

e. In paragraph (g), in Part A, ALTERNATIVE I item *3., revise “Current $” to read “Current liabilities $”;

f. In paragraph (g), in Part B, ALTERNATIVE I item 10., insert an asterisk (*) before “10.”;

g. In paragraph (g), in Part B, ALTERNATIVE I item 15., remove the comma after the word “If”;

h. In paragraph (g), in Part B, ALTERNATIVE II item *7., remove the underline before the “$”;

i.-j. In paragraph (h)(2), under the section GUARANTEE FOR LIABILITY COVERAGE, in the second sentence, revise “or which guarantor” to read “of which guarantor”; and revise the phrase “[either 264.141(h)]” to read “[either 264.141(h) or 265.141(h)]”;

k. In paragraph (h)(2), under the section RECITALS, item 13.(a), under the subsection CERTIFICATION OF VALID CLAIM, insert a closing bracket (]) after “[Principal's”;

l. In paragraph (h)(2), under the section RECITALS, item 14, last line, revise “Signature of witness of notary” to read “Signature of witness or notary”;

m. In paragraph (i), following item 2.(e), after “[Title]” revise “Authorized Representive” to read “Authorized Representative”;

n. In paragraph (j), item 2.(d), revise “corportation” to read “corporation”;

o. In paragraph (k), in the section IRREVOCABLE STANDBY LETTER OF CREDIT, delete the opening quotation mark before “(1)” before the subsection CERTIFICATE OF VALID CLAIM, and insert a closing bracket (]) at the end of the phrase after (2) to read “Grantor's facility or group of facilities.]”;

p. In paragraph (k), in the section CERTIFICATE OF VALID CLAIM, in the paragraph following (2), revise “[date] at least one year later]” to read “[date at least one year later]”;

q. In paragraph (l), revise the citations “§ 264.147(h) or § 265.147(h)” to read “§ 264.147(i) or § 265.147(i)”;

r. In paragraph (l), in the subsection CERTIFICATION OF VALID CLAIM, in the introductory paragraph, revise “accidential” to read “accidental”;

s. In paragraph (m)(1), in the CERTIFICATION OF VALID CLAIM Section 8.(c), revise both instances of “depositary” to read “depository”;

t.-u. In paragraph (n)(1), under STANDBY TRUST AGREEMENT, in Section 3.(c)(1), revise “employee or” to read “employee of”;

v. In paragraph (n)(1), Section 3.(e)(3), insert the word “by” after “Property loaned” to read “Property loaned by”;

w. In paragraph (n)(1), Section 12., third sentence, replace the semicolon after “the appointment” with a comma;

x. In paragraph (n)(1), Section 16., second sentence, revise “reasonable” to read “reasonably”.

§ 264.175 [Amended]

62. In § 264.175, amend paragraph (b)(1) by revising “underly” to read “underlie”.

§ 264.193 [Amended]

63. Amend § 264.193 as follows:

a. In the third sentence of the NOTE following paragraph (c)(4), revise “sub]ect” to read “subject”;

b. In paragraph (d)(4), insert a period at the end of the sentence;

c. In paragraph (e)(2)(ii), replace the colon with a semicolon;

d. In paragraph (e)(2)(iii), replace the colon with a semicolon;

e. In paragraph (e)(2)(v)(A), revise the citation “§ 262.21” to read “§ 261.21”;

f. In paragraph (e)(2)(v)(B), revise the citation “§ 262.21” to read “§ 261.23”, and replace the period after the word “vapor” with a semicolon and add the word “and”;

g. In paragraph (e)(3)(i), replace the period at the end with a semicolon;

h. In paragraph (e)(3)(ii), replace the colon with a semicolon;

i. In paragraph (g)(1)(iii), replace the comma after the word “water” with a semi-colon;

j. In paragraph (g)(1)(iv), insert a period at the end of the paragraph;

k. In paragraph (g)(2)(i)(A), replace the period with a comma.

§ 264.221 [Amended]

64. Amend § 264.221 as follows:

a. In paragraph (c)(1)(i)(B), revise “1x10/⁻⁷/ cm/sec” to read “1x10⁻⁷ cm/sec”;

b. In paragraph (c)(2)(ii), revise “1x10/⁻¹/ cm/sec” to read “1x10⁻¹ cm/sec” and revise “3x10/⁻⁴/ m²sec” to read “3x10⁻⁴ m²/sec”;

c. In paragraph (e)(1), revise “EP toxicity characteristics in” to read “toxicity characteristic in”;

d. In paragraph (e)(2)(i)(B), revise the citation “§ 144.3 of this chapter” to read “40 CFR 270.2”; and add quotation marks around “underground source of drinking water”.

e. In paragraph (e)(2)(i)(C), revise “requrements” to read “requirements”.

§ 264.223 [Amended]

65. In § 264.223, amend paragraph (b)(1) by revising “exceedence” to read “exceedance”.

§ 264.226 [Amended]

66. In § 264.226, amend paragraph (a)(2) by revising “inperfections” to read “imperfections”.

§ 264.251 [Amended]

67. In § 264.251, amend paragraph (a)(2)(i)(A) by revising “resistent” to read “resistant”.

§ 264.252 [Amended]

68. Amend § 264.252 as follows:

a. In paragraph (a), revise “surface impoundment units” to read “waste pile units”;

b. In paragraph (b), remove the comma after the citation “§ 264.254(c)”.

§ 264.259 [Amended]

69. In § 264.259, amend paragraph (b) by removing the comma between the word “and” and “F027”.

§ 264.280 [Amended]

70. Amend § 264.280 as follows:

a. In paragraph (c)(7), revise “expect that” to read “except that”;

b. In paragraph (d), introductory text, revise “closure of post-closure” to read “closure or post-closure”.

§ 264.283 [Amended]

71. In § 264.283, amend paragraph (a) by removing the comma between the word “and” and “F027”.

§ 264.301 [Amended]

72. Amend § 264.301 as follows:

a. In paragraph (c)(2), revise “paragraphs (3)(c)(iii) and (iv)” to read “paragraphs (c)(3)(iii) and (iv)”;

b. In paragraph (e)(2)(i)(B), revise the citation “§ 144.3 of this chapter” to read “40 CFR 270.2”; and add quotation marks around “underground source of drinking water”.

§ 264.302 [Amended]

73. Amend § 264.302 as follows:

a. In paragraph (a), revise “surface impoundment units” to read “landfill units”;

b. In paragraph (b), remove the comma after the citation “§ 264.303(c)”.

§ 264.304 [Amended]

74. In § 264.304, amend paragraph (b)(1) by revising “exceedence” to read “exceedance”.

§ 264.314 [Amended]

75. In § 264.314, amend paragraph (e)(2) by revising the citation “§ 144.3 of this chapter” to read “40 CFR 270.2”; and by adding quotation marks around “underground source of drinking water”.

§ 264.317 [Amended]

76. In § 264.317, amend paragraph (a) introductory text by revising “in a landfills” to read “in a landfill”.

§ 264.344 [Amended]

77. In § 264.344, amend paragraph (b) by revising “new wastes may be be based” to read “new wastes may be based”.

§ 264.552 [Amended]

78. Amend § 264.552 as follows:

a. In paragraph (e)(4)(iii), replace the colon at the end of the paragraph with a period;

b. In paragraph (e)(4)(iv)(F), revise the citation “40 CFR 260.11(11)” to read “40 CFR 260.11(a)(11)”;

c. In paragraph (e)(6)(iii)(E), revise “Hydrological” to read “Hydrogeological”.

§ 264.553 [Amended]

79. In § 264.553, amend paragraph (e) introductory text by revising “the Administrator” to read “the Regional Administrator”.

§ 264.554 [Amended]

80. In § 264.554, amend paragraph (a) introductory text by revising “Director in according” to read “Director according”.

§ 264.555 [Amended]

81. In § 264.555, amend paragraph (e)(6) by revising the word “miminal” to read “minimal”.

§ 264.573 [Amended]

82. Amend § 264.573 as follows:

a. In paragraph (a)(1), revise “non-earthern” to read “non-earthen”; and replace the colon at the end of the paragraph with a semicolon;

b. In paragraph (a)(4)(i), revise both occurrences of “1x10⁻⁷” to read “1x10⁻⁷”; and revise the citations “§ 264.572(a) instead of § 264.572(b)” to read “§ 264.572(b) instead of § 264.572(a)”;

c. In paragraph (a)(5), revise “perations” to read “operations”;

d. In paragraph (b) introductory text, revise the citations “§ 264.572(b) instead of § 264.572(a)” to read “§ 264.572(a) instead of § 264. 572(b)”;

e. In paragraph (m)(2) and in paragraph (m)(3) twice, revise “clean up” to read “cleanup”.

§ 264.600 [Amended]

83. Amend § 264.600 by revising “miscellanenous” to read “miscellaneous”; and by revising “provide” to read “provides”.

§ 264.601 [Amended]

84. Amend § 264.601 as follows:

a. In paragraph (a) introductory text, revise “heath” to read “health”;

b. In paragraph (b)(11), revise “constitutents” to read “constituents”;

c. In paragraph (c)(4), revise “metorologic” to read “meteorologic”.

§ 264.1030 [Amended]

85. Amend § 264.1030(c) by revising “owner and operator receives” to read “owner and operator receive”; and revise “owner and operator is subject” to read “owner and operator are subject”.

§ 264.1033 [Amended]

86. In § 264.1033, amend paragraph (f)(2)(vii)(B) by replacing the period after the word “regular” with a comma.

§ 264.1034 [Amended]

87. In § 264.1034, amend paragraph (b)(2) by removing the “(6)” in front of the phrase “The detection”.

§ 264.1035 [Amended]

88. Amend § 264.1035 as follows:

a. In paragraph (c)(4)(i), replace the period after the first instance of “760 °C” with a comma;

b. In paragraph (c)(4)(ii), insert a comma after the word “greater”.

§ 264.1050 [Amended]

89. In § 264.1050, amend paragraph (f) by revising the citation “§ 264,1064(g)(6)” to read “§ 264.1064(g)(6)”.

§ 264.1058 [Amended]

90. In § 264.1058, amend paragraph (c)(1) by replacing the period after the second occurrence of the word “detected” with a comma.

§ 264.1064 [Amended]

91. In § 264.1064, amend paragraph (c)(3) by removing the second section symbol (§) in the citation “§§ 264.1057(c)”.

§ 264.1080 [Amended]

92. Amend § 264.1080 as follows:

a. In paragraph (a), revise “subparts I, J, or K” to read “subpart “I, J, or K”;

b. In paragraph (c), last sentence, revise “owner and operator is subject” to read “owner and operator are subject”.

§ 264.1090 [Amended]

93. In § 264.1090, amend paragraph (c) by removing the third sentence.

§ 264.1101 [Amended]

94. Amend § 264.1101 as follows:

a. In paragraph (b)(3)(iii), revise the citation “§ 264.193(d)(1)” to read “§ 264.193(e)(1)”;

b. In paragraph (c)(3) introductory text, revise “hazardous waste, must repair” to read “hazardous waste, the owner or operator must repair”;

c. In paragraph (c)(3)(i), revise “lead” to read “led”;

d. In paragraph (d) introductory text, revise “For containment buildings that contain areas both” to read “For a containment building that contains both areas”.

§ 264.1102 [Amended]

95. In § 264.1102, amend paragraph (a) by removing the comma after “etc.”.

96. Amend Appendix I to Part 264 as follows:

a. In Table 1, add unit of measure codes for “Pounds”, “Short tons”, “Kilograms”, and “Tons” at the end of the table to read as set forth below; and

b. In Table 2 at Section 2.(d), revise the line “T75 Tricking filter” to read “T75 Trickling filter”.

Appendix I to Part 264—Recordkeeping Instructions.

Table 1
Unit of measure | Code ¹
* * * * *
Pounds | P
Short tons | T
Kilograms | K
Tons | M
¹ Single digit symbols are used here for data processing purposes.

* * * * *

PART 265—INTERIM STATUS STANDARDS FOR OWNERS AND OPERATORS OF HAZARDOUS WASTE TREATMENT, STORAGE, AND DISPOSAL FACILITIES

97. The authority citation for part 265 is revised to read as follows:

Authority: 42 U.S.C. 6905, 6906, 6912, 6922, 6923, 6924, 6925, 6935, 6936, and 6937.

§ 265.1 [Amended]

98. Amend § 265.1 as follows:

a. In paragraph (c)(4)(i) remove the phrase, “As stated in paragraph (c)(2) of this section,”;

b. In paragraph (c)(6), revise “subparts C, D, F, or G” to read “subparts C, F, G, or H”.

§ 265.12 [Amended]

99. In § 265.12, amend paragraph (a)(1) by revising “of the date of the waste” to read “of the date the waste”.

§ 265.14 [Amended]

100. In § 265.14, amend paragraph (b)(1) by revising “guards of facility personnel” to read “guards or facility personnel”.

§ 265.16 [Amended]

101. In § 265.16, amend paragraph (b) by revising “successfuly” to read “successfully”.

§ 265.19 [Amended]

102. In § 265.19, amend paragraph (c)(2) last sentence, by revising “264.254(c)(1)” to read “264.251(c)(1)”.

§ 265.56 [Amended]

103. In § 265.56, amend paragraph (b) by revising “a real” to read “areal” (one word).

§ 265.90 [Amended]

104. In § 265.90, amend paragraph (d) introductory text by removing the comma after the phrase “he may”.

§ 265.110 [Amended]

105. In § 265.110, amend paragraph (b)(4) by revising “building” to read “buildings”.

§ 265.111 [Amended]

106. In § 265.111, amend paragraph (c) by revising the citation “264.1102” to read “265.1102”.

§ 265.112 [Amended]

107. Amend § 265.112 as follows:

a. In paragraph (b)(5), revise “partial and final closure period” to read “partial and final closure periods”;

b. In paragraph (d)(4), in the next to last sentence, revise the citation “§§ with 265.111” to read “§§ 265.111”; revise “part, §§ 265.197” to read “part, and §§ 265.197”; and revise the citation “264.1102” to read “265.1102”.

§ 265.113 [Amended]

108. Amend § 265.113 as follows:

a. In paragraph (b) introductory text, revise “extenstion” to read “extension”;

b. In paragraph (e)(4), revise “oonstituents” to read “constituents”.

§ 265.117 [Amended]

109. In § 265.117, amend paragraph (b) introductory text by revising “Administator” to read “Administrator”.

§ 265.119 [Amended]

110. In § 265.119, amend paragraph (b)(1)(ii) by revising the citation “40 CFR subpart G” to read “40 CFR part 265, subpart G”.

§ 265.140 [Amended]

111. Amend § 265.140 as follows:

a. In paragraph (b) introductory text, revise the citation “265.146” to read “265.145”;

b. In paragraph (b)(2), revise the citation “§ 264.197” to read “§ 265.197”.

§ 265.142 [Amended]

112. In § 265.142, amend paragraph (a) by removing “265.178” from the list of sections.

§ 265.145 [Amended]

113. Amend § 265.145 as follows:

a. In paragraph (e)(11), first sentence, revise “for this section” to read “of this section”;

b. In paragraph (e)(11), second sentence, revise “direct of higher-tier” to read “direct or higher-tier”;

c. In paragraph (e)(11), third sentence, revise the citation “(f)(1) through (9)” to read “(e)(1) through (9)”;

d. In paragraph (e)(11), fifth sentence, revise the citation “(f)(3)” to read “(e)(3)”.

§ 265.147 [Amended]

114. Amend § 265.147 as follows:

a. Amend paragraph (a)(1)(i) in the next to last sentence by revising “or Regional Administrator if facilities” to read “or Regional Administrators if the facilities”.

b. Amend paragraph (b)(1) by adding paragraphs (i) and (ii) to read as follows:

§ 265.147 Liability requirements.

* * * * *

(b) * * *

(1) * * *

(i) Each insurance policy must be amended by attachment of the Hazardous Waste Facility Liability Endorsement or evidenced by a Certificate of Liability Insurance. The wording of the endorsement must be identical to the wording specified in § 264.151(i). The wording of the certificate of insurance must be identical to the wording specified in § 264.151(j). The owner or operator must submit a signed duplicate original of the endorsement or the certificate of insurance to the Regional Administrator, or Regional Administrators if the facilities are located in more than one Region. If requested by a Regional Administrator, the owner or operator must provide a signed duplicate original of the insurance policy.

(ii) Each insurance policy must be issued by an insurer which, at a minimum, is licensed to transact the business of insurance, or eligible to provide insurance as an excess or surplus lines insurer, in one or more States.

* * * * *

§ 265.174 [Amended]

115.-116. Amend § 265.174, by deleting the phrase “and the containment system”.

§ 265.193 [Amended]

117. Amend § 265.193 as follows:

a. In paragraph (e)(2)(v)(A), revise the citation “§ 262.21” to read “§ 261.21”;

b. In paragraph (e)(2)(v)(B), revise the citation “§ 262.21” to read “§ 261.23”;

c. In paragraph (i)(2), in the last sentence, revise “tanks surfaces” to read “tank surfaces”.

§ 265.194 [Amended]

118. In § 265.194, amend paragraphs (b)(1) and (b)(2) by inserting a period after “e.g” in both paragraphs, and in paragraph (b)(1), by revising “discount” to read “disconnect”.

§ 265.197 [Amended]

119. In § 265.197, amend paragraph (b) by inserting a period after the closing parenthesis of the citation “(265.310)”.

§ 265.201 [Amended]

120. In § 265.201, amend paragraph (c) introductory text, by revising “hazardous in tanks” to read “hazardous waste in tanks”.

§ 265.221 [Amended]

121. Amend § 265.221 as follows:

a. In paragraph (a), revise “leachate collection and removal system above and between the liners” to read “leachate collection and removal system between the liners”;

b. In paragraph (d)(2)(i)(A), revise “in leaking?” to read “is leaking”; revise “soil it is not” to read “soil is not”; and revise “the owner of operator” to read “the owner or operator”;

c. In paragraph (d)(2)(i)(B), revise the citation “§ 144.3 of this chapter” to read “40 CFR 270.2”; and add quotation marks around “underground source of drinking water”.

§ 265.224 [Amended]

122-123. In § 265.224, amend paragraph (b)(1) by revising “exceedence” to read “exceedance”.

§ 265.228 [Amended]

124. Amend § 265.228 as follows:

a. In paragraph (a)(2)(iii)(D), revise “Accomodate” to read “Accommodate”;

b. In paragraph (b)(2), revise the citation “§§ 265.221(c)(2)(iv)” to read “§§ 264.221(c)(2)(iv)”.

§ 265.229 [Amended]

125. Amend § 265.229 by removing paragraph (b)(2) and redesignate paragraphs (b)(3) and (b)(4) as paragraphs (b)(2) and (b)(3), respectively.

§ 265.255 [Amended]

126. Amend § 265.255 in paragraph (b) by revising “surface impoundment units” to read “waste pile units”.

§ 265.259 [Amended]

127. In § 265.259, amend paragraph (b)(1) by revising “exceedence” to read “exceedance”.

§ 265.280 [Amended]

128. In § 265.280, amend paragraph (a)(4) by revising “gowth” to read “growth”.

§ 265.281 [Amended]

129. In § 265.281, amend paragraph (a)(1) by revising the citation “§ 265.21” to read “§ 261.21”.

§ 265.301 [Amended]

130. Amend § 265.301 as follows:

a. In paragraph (a), revise “in accordance with § 264.301(d), (e), or (f) of this chapter” to read “in accordance with § 264.301(c), unless exempted under § 264.301(d), (e), or (f) of this chapter”;

b. In paragraph (d)(1), revise “such waste does not” to read “such wastes do not”; revise the citation “§ 261.4” to read “§ 261.24”; and revise “Hazardous Waste Number” to read “Hazardous Waste Numbers”;

c. In paragraph (d)(2)(i)(B), revise the citation “§ 144.3 of this chapter” to read “40 CFR 270.2”; and add quotation marks around “underground source of drinking water”.

§ 265.302 [Amended]

131. In § 265.302, amend paragraph (b) by revising “surface impoundment units” to read “landfill units”.

§ 265.303 [Amended]

132. In § 265.303, amend paragraph (b)(1) by revising “exceedence” to read “exceedance”.

§ 265.312 [Amended]

133. In § 265.312, amend paragraph (a)(1) by revising “dissolution or material” to read “dissolution of material”.

§ 265.314 [Amended]

134. Amend § 265.314 as follows:

a. In paragraph (e)(1)(ii), revise “polysobutylene” to read “polyisobutylene”;

b. In paragraph (f)(2), revise the citation “§ 144.3 of this chapter” to read “40 CFR 270.2”; and add quotation marks around “underground source of drinking water”.

§ 265.316 [Amended]

135. Amend § 265.316 as follows:

a. In the introductory text, revise “landfull” to read “landfill”;

b. In paragraph (c), revise “container's” to read “containers”;

c. In paragraph (d), revise “§ 260.10(a)” to read “§ 260.10”.

§ 265.405 [Amended]

136. In § 265.405, amend paragraph (a)(1) by revising the citation “§ 261.21 or 261.23 or this chapter” to read “§§ 261.21 or 261.23 of this chapter”.

§ 265.441 [Amended]

137. In § 265.441, amend paragraph (c) by revising “state Director” to read “State Director”.

§ 265.443 [Amended]

138. Amend § 265.443 as follows:

a. In paragraph (a)(4)(i), revise the citation “§ 265.442(a) instead of § 265.442(b)” to read “§ 265.442(b) instead of § 265.442(a)”;

b. In paragraph (b) introductory text, revise the citation “§ 265.442(b) instead of § 265.442(a)” to read “§ 265.442(a) instead of § 265. 442(b)”.

§ 265.445 [Amended]

139. In § 265.445, amend paragraph (b) by revising “post/closure care” to read “post-closure care”.

§ 265.1033 [Amended]

140. In § 265.1033, amend paragraph (f)(2)(ii) by replacing the period with a comma after “±0.5 °C”.

§ 265.1035 [Amended]

141. Amend § 265.1035 as follows:

a. In paragraph (b)(2) introductory text, replace the period with a comma after the citation “§ 265.1032”;

b. In paragraph (b)(2)(i), revise “annual throughput end operating hours” to read “annual throughput and operating hours”;

c. In paragraph (c)(4)(i), replace the period with a comma after the first occurrence of “760 °C”.

§ 265.1063 [Amended]

142. In § 265.1063, amend paragraph (b)(4)(ii) by replacing the period in “10.000” with a comma.

§ 265.1080 [Amended]

143. In § 265.1080, amend paragraph (a) by revising the citation “subparts I, J, or K” to read “subpart I, J, or K”.

§ 265.1085 [Amended]

144. In § 265.1085, amend paragraph (h)(3) introductory text, by revising “under either or the following” to read “under either of the following”.

§ 265.1087 [Amended]

145. In § 265.1087, amend paragraph (b) by designating the text following the paragraph heading “General requirements” as paragraph (b)(1).

§ 265.1090 [Amended]

146. In § 265.1090, amend paragraph (f)(1) by revising the citation “§ 265.1084(c)(2)(i)” to read “§ 265.1083(c)(2)(i)”.

§ 265.1100 [Amended]

147. In § 265.1100, amend paragraph (d) by revising “permit” to read “prevent”.

“265.1101 [Amended]

148. Amend § 265.1101 as follows:

a. In paragraph (b)(3)(i)(B), revise “trasmissivity” to read “transmissivity”;

b. In paragraph (b)(3)(iii), revise the citation “§ 265.193(d)(1)” to read “§ 265.193(e)(1)”;

c. In paragraph (c)(3) introductory text, revise “hazardous waste, must repair” to read “hazardous waste, the owner or operator must repair”;

d. In paragraph (d) introductory text, revise “For containment” to read “For a containment”.

149. Amend Appendix I to part 265 as follows:

a. In Table 1, add unit of measure codes for “Pounds,” “Short tons,” “Kilograms,” and “Tons” at the end of the table to read as set forth below;

b. In Table 2, Section 2.(d), revise “T75 Tricking filter” to read “T75 Trickling filter”;

c. In Table 2, Section 4., revise the heading “Miscellaneous (Subpart X)” to read “Miscellaneous”;

d. In Table, 2, Section 4., revise “X99 Other Subpart X (specify)” to read “X99 Other (specify)”.

Appendix I to Part 265—Recordkeeping Instructions

* * * * *

Table 1
Unit of measure | Code ¹
* * * * *
Pounds | P
Short tons | T
Kilograms | K
Tons | M
¹ Single digit symbols are used here for data processing purposes.

* * * * *

Appendix V to Part 265—[Amended]

150. In the table in Appendix V to Part 265, under the Group 1-A column, revise the phrase “Akaline caustic liquids” to read “Alkaline caustic liquids”; and revise “Lime sludge and other corrosive alkalines” to read “Lime sludge and other corrosive alkalies”.

Appendix VI to Part 265—[Amended]

151. Amend Appendix VI to part 265 as follows:

a. In the entry “Dichlorvos (DDVP)”, revise the CAS No. “62737” to read “62-73-7”;

b. In the entry “Ethylene thiourea (2-imidazolidinethione)” revise the CAS No. “9-64-” to read “96-45-7”;

c. In the entry “Neopentyl glycol (dimethylolpropane)” revise “dimethylolpropane” to read “dimethylpropane”;

d. In the entry “1,3-Propane sulfone”, revise “sulfone” to read “sultone”.

PART 266—STANDARDS FOR THE MANAGEMENT OF SPECIFIC HAZARDOUS WASTES AND SPECIFIC TYPES OF HAZARDOUS WASTE MANAGEMENT FACILITIES

152. The authority citation for part 266 continues to read as follows:

Authority: 42 U.S.C. 1006, 2002(a), 3001-3009, 3014, 6905, 6906, 6912, 6921, 6922, 6924-6927, 6934, and 6937.

§ 266.70 [Amended]

153. In § 266.70, amend paragraph (a) by revising “paladium, irridium” to read “palladium, iridium”.

§ 266.80 [Amended]

154. In § 266.80, amend the Table in paragraph (a) by inserting, in the third column, a comma after “(except for § 262.11)” in all four instances.

§ 266.100 [Amended]

155. Amend § 266.100 as follows:

a. In paragraph (b)(2)(iv), revise “§ 266.212” to read § 266.112”;

b. In paragraph (d)(3)(i)(A), revise “appendix IX” to read “appendix XI”;

c. In paragraph (g) introductory text, revise “paladium, irridium” to read “palladium, iridium”.

§ 266.102 [Amended]

156. Amend § 266.102 as follows:

a. In paragraph (a)(2)(vi), revise “(Corrective Action)” to read “(Releases from Solid Waste Management Units)”;

b. In paragraph (e)(3)(i)(E), revise the citation “§ 266.111(b)” to read “§ 266. 105(a)”;

c. In paragraph (e)(5)(i)(C), revise “chorline” to read “chlorine”; and revise “feestocks” to read “feedstocks”;

d. In paragraph (e)(6)(ii)(B)(2), revise “of preceding” to read “of the preceding”;

e. In paragraph (e)(8)(iii), revise “values” to read “valves”.

157. Amend § 266.103 as follows:

a. In paragraph (a)(4)(vii), revise the citation “265.147-265.151” to read “265.147-265.150”;

b. In paragraph (b)(2)(v)(B)(2), revise “meterological” to read “meteorological”;

c. In paragraph (b)(5)(ii)(A), revise “on a hourly” to read “on an hourly”;

d. In paragraph (b)(6)(viii)(A), revise “Ageny” to read “Agency”;

e. In paragraph (c)(1)(ii)(A)(2), revise “feedsteams” to read “feedstreams”;

f. In paragraph (c)(1)(ix)(A), revise “ration” to read “ratio”;

g. In paragraph (c)(4)(iv)(C)(1), revise “on a hourly” to read “on an hourly”;

h. In paragraph (g)(1)(i), revise “on a hourly” to read “on an hourly”.

i. Revise paragraphs (c)(1)(i) and (c)(1)(ix) introductory text to read as follows:

§ 266.103 Interim status standards for burners.

* * * * *

(c) * * *

(1) * * *

(i) Feed rate of total hazardous waste and (unless complying with the Tier I or adjusted Tier I metals feed rate screening limits under § 266.106(b) or (e)), pumpable hazardous waste;

* * * * *

(ix) For systems using wet scrubbers, including wet ionizing scrubbers (unless complying with the Tier I or Adjusted Tier I metals feed rate screening limits under § 266.106(b) or (e) and the total chlorine and chloride feed rate screening limits under § 266.107(b)(1) or (e)):

* * * * *

§ 266.106 [Amended]

158-159. In § 266.106, amend paragraph (d)(1) by deleting the second appearance of the phrase “dispersion modeling to predict the maximum annual average off-site ground level concentration for each”.

§ 266.109 [Amended]

160. Amend § 266.109 as follows:

a. In paragraph (a)(2)(ii), revise “constitutent” to read “constituent” in both instances;

b. In paragraph (b) introductory text in the paragraph heading, revise “particular” to read “particulate”.

Subpart N—Conditional Exemption for Low-Level Mixed Waste Storage, Treatment, Transportation and Disposal.

161. Amend Part 266 by revising the subpart heading to read as set forth above.

Appendix III to Part 266—[Amended]

162. Amend Part 266, Appendix III column headings by revising “C12” to read “Cl2” three times, and by revising “HC1” to read “HCl” three times (i.e., revise the “1” (one) to be a lower-case letter L in all six cases).

Appendix IV to Part 266—[Amended]

163. Amend Part 266, Appendix IV as follows:

a. Revise the entry “Maleic Anyhdride” to read “Maleic Anhydride”;

b. Revise the entry “2.4.5-Trichlorophenol” to read “2,4,5-Trichlorophenol”.

Appendix V to Part 266—[Amended]

164. Amend Part 266, Appendix V as follows:

a. Revise the third column heading “Unit risk (m3/μg)” to read “Unit risk (m³/μg)”;

b. Revise the fourth column heading “RsD (μg/m3)” to read “RsD (μg/m³)”;

c. Revise the entry “Benxene” to read “Benzene”;

d. Revise the entry “Hexachlorodibenxo-p-dioxin (1,2 Mixture)” to read “Hexachlorodibenzo-p-dioxin (1,2 Mixture)”.

Appendix VI to Part 266—[Amended]

165. Amend Part 266, Appendix VI by revising the first column heading “Flow rate (m3/s)” to read “Flow rate (m³/s)”.

Appendix VIII to Part 266—[Amended]

166. Amend Part 266, Appendix VIII in the “Semivolatiles” column, by revising “Plychlorinated” to read “Polychlorinated”.

Appendix IX to Part 266—[Amended]

167. Amend Part 266, Appendix IX as follows:

a. In the Table of Contents at 4.0, revise “Estimating Toxicity Equipment or” to read “Estimating the Toxicity Equivalence of”;

b. In the Table of Contents at 9.2, revise “Cl,” to read “Cl2”;

c. In the Table of Contents at 10.4, revise “Overviev” to read “Overview”;

d. In Section 2.1.2.9, revise “The PA test” to read “The RA test”;

e. In Section 2.1.2.10, revise “determination of 0²” to read “determination of O2)”;

f. In Table 2.1-1 footnote 1, revise “of twice the permit limit” to read “or twice the permit limit”;

g. In Section 2.1.4.6, revise “the PA test” to read “the RA test”;

h. In Section 2.2.10, first sentence, revise “used In conjunction” to read “used in conjunction”;

i. In the section 4.0 title, revise “DIBENCO-“ to read “DIBENZO-”;

j. In Section 5.0 at Step 6, footnote 5 first sentence, remove the comma after the phrase “urban and rural areas”;

k. In Section 5.0 at Table 5.0-5, for distance 10.00, revise the Generic source #1 value “9.4” in the second column to read “29.4”;

l. In Section 5.0 at Step 7(B), second sentence, insert a closing parenthesis after “(identified in Step 7(A)” to read “(identified in Step 7(A))”;

m. In Section 5.0 at the Table in Step 10(D)1., replace the comma in column heading “>0,5−2.5” with a period to read “>0.5-2.5”;

n. In Section 5.0 at the Table below Table 5.0-6, revise the column heading “Cᵃ(μg/m³)” to read “Ca(μg/m³)”; and revise “CA(>G/M3)” to read “Ca(μg/m³)”;

o. In Section 6.2, first paragraph second sentence, revise “Within These” to read “Within these”;

p. In Section 7.1, second paragraph second sentence, revise “Mulitple” to read “Multiple”;

q. In Section 7.2, at the last paragraph, revise “This, if” to read “Thus, if”;

r. In Section 8.0, second paragraph, revise “chorine” to read “chlorine”;

s. In Section 9.2, in the first sentence, revise the formula “Cl2” to read “Cl2”;

t. In Section 10.3, last sentence of next to last paragraph, replace the period in the phrase “To avoid this expense.” with a comma;

u. In Section 10.5(2), fourth bullet, in the sentence starting “Three of the first five tests”, replace the period in “hazardous wastes. and in” with a comma.

Appendix XIII to Part 266—[Amended]

168. Amend Part 266, Appendix XIII at item number 14 by revising “levels or mercury” to read “levels of mercury”.

PART 267—STANDARDS FOR OWNERS AND OPERATORS OF HAZARDOUS WASTE FACILITIES OPERATING UNDER A STANDARDIZED PERMIT

169. The authority citation for part 267 continues to read as follows:

Authority: 42 U.S.C. 6902, 6912(a), 6924-6926, and 6930.

§ 267.147 [Amended]

170. In § 267.147, amend paragraph (f)(2)(i)(A) by revising “test for facilities regulated under § 267 and also § 264 or § 265” to read “test for facilities regulated under part 267 and also part 264 or part 265”.

PART 268—LAND DISPOSAL RESTRICTIONS

171. The authority citation for part 268 continues to read as follows:

Authority: 42 U.S.C. 6905, 6912(a), 6921, and 6924.

§ 268.2 [Amended]

172. In § 268.2, amend paragraph (g) by revising “A manufactured” to read “a manufactured”; “Any material” to read “any material”; “Process residuals” to read “process residuals”; and “and Intact” to read “and intact”.

§ 268.4 [Amended]

173. In § 268.4, amend paragraph (a)(3) introductory text by revising the citation “of part 264 or part 264” to read “of part 264 or part 265”.

§ 268.6 [Amended]

174. In § 268.6, amend paragraph (c)(5) introductory text by revising “section meet” to read “section meets”.

175. Amend § 268.7 as follows:

a. In paragraph (a)(1), insert a closing parenthesis at the end of the sentence that starts “(Alternatively, the generator” and in the second to last sentence, revise “solids contaminated” to read “soils contaminated”;

b. In paragraph (a)(3)(ii), second sentence, insert the word “column” after the phrase “information in”, and insert a closing quotation mark after the citation “268.7(a)(3)”;

c. In paragraph (a)(4), at entry 8 of the Table, amend “[is subject to/complies with” by inserting a closing bracket (“]”) at the end of the phrase;

d. In paragraph (b)(3)(ii) at entry 5 of the Table, insert a closing quotation mark after the citation “268.49(c)”;

e. In paragraph (b)(4)(ii), revise the citation “§ 261.3(e)” to read “§ 261.3(f)”;

f. In paragraph (c)(2), remove the closing parenthesis from “Leaching Procedure)”;

g. In paragraph (d) introductory text, revise the citation “§ 261.3(e)” to read “§ 261.3(f)”;

h. Revise paragraph (d)(1) to read as set forth below;

i. In paragraph (d)(2), revise the citation “§ 261.2(e)(1)” to read “§ 261.3 (f)(1)”;

j. In paragraph (d)(3), revise the citation “§ 261.3(e)(1)” to read “§ 261.3 (f)(1)”.

§ 268.7 Testing, tracking, and recordkeeping requirements for generators, treaters, and disposal facilities.

* * * * *

(d) * * *

(1) A one-time notification, including the following information, must be submitted to the EPA Regional hazardous waste management division director (or his designated representative) or State authorized to implement part 268 requirements:

(i) The name and address of the Subtitle D facility receiving the treated debris;

(ii) A description of the hazardous debris as initially generated, including the applicable EPA Hazardous Waste Number(s); and

(iii) For debris excluded under § 261.3(f)(1) of this chapter, the technology from Table 1, § 268.45, used to treat the debris.

* * * * *

§ 268.14 [Amended]

176. In § 268.14, amend paragraphs (b) and (c) by revising “not withstanding” to read “notwithstanding” in both instances.

§ 268.40 [Amended]

177.-178. Amend § 268.40 as follows:

a. In paragraph (g), revise “as definded” to read “as defined”.

b. Amend the table TREATMENT STANDARDS FOR HAZARDOUS WASTES as follows:

1. At the column heading “Wastewaters”, revise “Concentration in mg/L³” to read “Concentration ³ in mg/L”;

2. At the column heading “Nonwastewaters”, revise “Concentration in mg/kg⁵” to read “Concentration⁵ in mg/kg”;

3. At the entry “K047”, in the waste description column, revise “water form TNT” to read “water from TNT”;

4. At the entries “K049” and “K051”, revise the CAS number for “Chrysene” from “2218-01-9” to read “218-01-9”;

5. At the entry “K088”, revise the common name “Bemz(a)anthracene” to read “Benz(a)anthracene”; and revise the common name “Indeno(1,2,3,-c,d)pyrene” to read “Indeno(1,2,3-cd)pyrene”;

6. At the entry “K111”, revise the CAS number for “2,4-Dinitrotoluene” from “121-1-2” to read “121-14-2”;

7. At the entry “K114”, in the waste description column, revise the common name “dinitrotolune” to read “dinitrotoluene”;

8. At the entry “K156”, revise the CAS number for “Acetophenone” from “96-86-2” to read “98-86-2”; and revise the CAS number for “Triethylamine” from “101-44-8” to read “121-44-8”;

9. At the entry “U202” “Acetone” following “U001”, revise “U202” to read “U002”;

10. At the entry “U134”, revise the CAS number “16984-48-8” to read “7664-39-3”;

11. At the entry “U137”, revise in the waste description and in the common name columns “Indeno(1,2,3-c,d)pyrene” to read “Indeno(1,2,3-cd)pyrene” in both instances.

§ 268.42 [Amended]

179. In § 268.42, Table 1, amend the entry for Technology code “SSTRP” in the second column as follows:

a. In the first sentence, revise “as well as, temperature and pressure ranges have” to read “as well as temperature and pressure ranges, have”;

b. In the second sentence, insert a comma after the phrase “parameters of the unit”; remove the comma in the phrase “such as, the number”; and replace the period at the end of “the internal column design.” with a comma;

c. In the third sentence, revise “Thus, resulting” to read “thus resulting”.

§ 268.44 [Amended]

180. In § 268.44, amend paragraph (c), last sentence of the certification statement, by revising “I am aware that these are” to read “I am aware that there are”.

§ 268.45 [Amended]

181. Amend § 268.45, Table 1, as follows:

a. At item B.1., first column, revise “biodegration” to read “biodegradation”;

b. At item B.2.a., first column, revise “electolytic” to read “electrolytic”; and under number (8), revise “perman-ganates” to read “permanganates”.

§ 268.48 [Amended]

182. Amend § 268.48 Table, UNIVERSAL TREATMENT STANDARDS, as follows:

a. At the column heading “Wastewater standard”, revise “Concentration in mg/l²” to read “Concentration² in mg/l”;

b. At the column heading “Nonwastewater standard”, revise “Concentration in mg/kg³” to read “Concentration³ in mg/kg”.

c. At entry “1,2,3,4,6,7,8-Heptachlorodibenzofluran (1,2,3,4,6,7,8-HpCDF)” revise CAS number “67562-39-5” to read “67562-39-4”;

d. Revise the next entry “1,2,3,4,6,7,8-Heptachlorodibenzofluran (1,2,3,4,7,8,9-HpCDF)” (CAS number 55673-89-7) to read “1,2,3,4,7,8,9-Heptachlorodibenzofluran (1,2,3,4,7,8,9-HpCDF)”.

§ 268.49 [Amended]

183. In § 268.49, amend paragraph (d) by revising “flouride” to read “fluoride”.

§ 268.50 [Amended]

184. Amend § 268.50 as follows:

a. In paragraph (c), revise “A owner/operator” to read “An owner/operator”;

b. In paragraph (g), revise “requirements in this do not” to read “requirements in this section do not”.

Appendix VIII to Part 268—[Amended]

185. Amend Part 268, Appendix VIII, by removing the second instances of the entries for “K011” “Nonwastewater” and for “K011” “Wastewater”.

PART 270—EPA ADMINISTERED PERMIT PROGRAMS: THE HAZARDOUS WASTE PERMIT PROGRAM

186. The authority citation for part 270 continues to read as follows:

Authority: 42 U.S.C. 6905, 6912, 6924, 6925, 6927, 6939, and 6974.

§ 270.1 [Amended]

187. Amend § 270.1 as follows:

a. In the table in paragraph (a)(2), after 3001 revise “Indentification” to read “Identification”;

b. In paragraph (b) introductory text, revise “analagous” to read “analogous”;

c. In paragraph (c)(1)(iii), revise “it they” to read “if they?”;

d. In paragraph (c)(3)(i) introductory text, revise “obtain an RCRA” to read “obtain a RCRA”.

§ 270.2 [Amended]

188. Amend § 270.2 as follows:

a. In the definition of “On-site”, revise “continguous” to read “contiguous”;

b. In the definition of “Publicly owned treatment works (POTW)”, revise “unsed” to read “used”.

§ 270.10 [Amended]

189. In § 270.10, amend paragraph (j) by revising “stores, treats, or dispose of” to read “stores, treats, or disposes”.

§ 270.11 [Amended]

190. Amend § 270.11 as follows:

a. In paragraph (d)(1), revise “paragraph (a) or (b) of this must” to read “paragraph (a) or (b) of this section must”;

b. In paragraph (d)(2), certification statement, revise “upon information and belief” to read “to the best of my knowledge and belief”.

§ 270.13 [Amended]

191. In § 270.13, amend paragraph (k)(7) by revising “Sancturies” to read “Sanctuaries”.

§ 270.14 [Amended]

192. Amend § 270.14 as follows:

a. In paragraph (a), in next to the last sentence, revise “design drawings and specification” to read “design drawings and specifications”;

b. In paragraph (b)(11)(ii)(B), revise “with 200 feet” to read “within 200 feet”;

c. In paragraph (b)(19)(iii), revise “intermittant” to read “intermittent”;

d. In paragraph (b)(21), revise “uner” to read “under”.

§ 270.17 [Amended]

193. In § 270.17, amend paragraph (f) by revising “detailed-plans” to read “detailed plans”.

§ 270.18 [Amended]

194. In § 270.18, amend paragraph (b) by revising the citation “§ 264.90(2)” to read “§ 264.90(b)(2)”; and amend paragraph (g) by revising “place” to read “placed”.

§ 270.20 [Amended]

195. In § 270.20, amend paragraph (i)(2) by revising “attentuative” to read “attenuative”.

§ 270.26 [Amended]

196.-197. In § 270.26, amend paragraph (c)(15) by revising “through(f) § 264.573” to read “through (f) of § 264.573”.

§ 270.33 [Amended]

198. In § 270.33, amend paragraph (b) introductory text by revising “An RCRA permit” to read “A RCRA permit”.

§ 270.41 [Amended]

199. In § 270.41, amend paragraph (c) by revising “environmental” to read “environment”.

§ 270.42 [Amended]

200. In § 270.42, amend paragraph (d)(2)(i) by revising “do no” to read “do not”.

Appendix I to § 270.42—[Amended]

201. Amend § 270.42 Appendix I as follows:

a. At item C.4, revise the modification class code (second column) “¹2” to read “2”;

b. At item C.6, revise the citation “264.98(j)” to read “264.98(h)”;

c. At item C.7.a, revise the citation “264.98(h)(4)” to read “264.98(g)(4)”;

d. At item C.7.b, revise the citation “264.99(k)” to read “264.99(j)”;

e. At item C.8.a, revise the citation “264.99(i)(2)” to read “264.99(h)(2)”;

f. At item F.2, amend by replacing the colon after “2” with a period;

g. At item F.4, revise “Storage of treatment” to read “Storage or treatment”;

h. At item F.4.a., revise the modification class code “1” to read “¹1”;

i. At item G.1, amend by replacing the colon after “1” with a period;

j. At item H.6, revise the modification class code “*1” to read “¹1”;

k. At item J.7, revise the modification class code “*1” to read “¹1”;

l. At item L.9, revise “Changes Needed to meet Standards” to read “changes needed to meet standards”.

§ 270.70 [Amended]

202.-203. In § 270.70, amend paragraph (a) introductory text by revising “have an RCRA permit” to read “have a RCRA permit”.

§ 270.72 [Amended]

204. In § 270.72, amend paragraph (b)(2) by revising “inpoundments” to read “impoundments”.

PART 271—REQUIREMENTS FOR AUTHORIZATION OF STATE HAZARDOUS WASTE PROGRAMS

205. The authority citation for Part 271 continues to read as follows:

Authority: 42 U.S.C. 6905, 6912(a), and 6926.

§ 271.1 [Amended]

206. Amend § 271.1 as follows:

a. In Table 1, at promulgation date of April 8, 1996, second column, revise “Wastesaters,” to read “Wastewaters,”; and at promulgation date of July 15, 2002, second column, revise “Fertlizers” to read “Fertilizers”;

b. In Table 2, at the fourteenth item under effective date of Nov. 8, 1984, second column, revise “envirorment” to read “environment”; and at effective date of Sept. 1, 1985, second column, revise “mininization” to read “minimization”.

§ 271.21 [Amended]

207. Amend § 271.21 as follows:

a. In paragraph (f), remove the phrase “speciflines”;

b. In paragraph (g)(1)(i), revise “dils” to read “diligent efforts”.

§ 271.23 [Amended]

208. Amend § 271.23 as follows:

a. In paragraph (a)(1), revise “relevent” to read “relevant”;

b. In paragraph (b)(1), revise “with drawal” to read “withdrawal”;

c. In paragraph (b)(5), revise “makng” to read “making”.

PART 273—STANDARDS FOR UNIVERSAL WASTE MANAGEMENT

209. The authority citation for Part 273 continues to read as follows:

Authority: 42 U.S.C. 6922, 6923, 6924, 6925, 6930, and 6937.

§ 273.9 [Amended]

210. In § 273.9, amend the definition of “Universal Waste” as follows:

a. Revise “hazardous waste” to read “hazardous wastes”;

b. In paragraph (1), insert a semicolon after the citation “§ 273.2”;

c. In paragraph (2), insert a semicolon after the citation “§ 273.3”;

§ 273.13 [Amended]

211. In § 273.13, amend paragraph (b) introductory text by revising “prevent releases” to read “prevents releases”.

§ 273.14 [Amended]

212. Amend § 273.14, in paragraph (a), by adding closing quotation marks after the phrase “Universal Waste—Battery(ies),”.

§ 273.34 [Amended]

213. In § 273.34, amend paragraph (a) by revising “clearly with the any one” to read “clearly with any one”.

PART 279—STANDARDS FOR THE MANAGEMENT OF USED OIL

214-215. The authority citation for Part 279 continues to read as follows:

Authority: Sections 1006, 2002(a), 3001 through 3007, 3010, 3014, and 7004 of the Solid Waste Disposal Act, as amended (42 U.S.C. 6905, 6912(a), 6921 through 6927, 6930, 6934, and 6974); and sections 101(37) and 114(c) of CERCLA (42 U.S.C. 9601(37) and 9614(c)).

§ 279.1 [Amended]

216. In § 279.1, amend the definition of “Petroleum refining facility” by revising “kerosine” to read “kerosene”.

§ 279.10 [Amended]

217. In § 279.10, amend paragraph (b)(2) introductory text by revising “solely exhibits” to read “solely exhibit”; and by revising “hazardous waste characteristic” to read “hazardous waste characteristics”.

§ 279.11 [Amended]

218. Amend § 279.11 as follows:

a. In the first sentence, delete “in the specification”; and in the second sentence, revise “not to exceed any specification” to read “not to exceed any allowable level”;

b. In Table 1, revise the title of the table to read “TABLE 1—USED OIL NOT EXCEEDING ANY ALLOWABLE LEVEL SHOWN BELOW IS NOT SUBJECT TO THIS PART WHEN BURNED FOR ENERGY RECOVERY¹”, and in the first footnote, revise “The specification does not” to read “The allowable levels do not”.

§ 279.43 [Amended]

219. Amend § 279.43 as follows:

a. In paragraph (c)(3)(i), insert a comma after the citation “49 CFR 171.15”;

b. In paragraph (c)(5), revise “used oil discharged” to read “used oil discharge”.

§ 279.44 [Amended]

220. Amend § 279.44 as follows:

a. In paragraph (a), revise “being transporter” to read “being transported”;

b. In paragraph (c)(2), revise “if the CFC are” to read “if the CFCs are”.

§ 279.45 [Amended]

221. Amend § 279.45 in paragraph (a) by revising “subpart F of this chapter” to read “subpart F of this part”.

§ 279.52 [Amended]

222. Amend § 279.52 as follows:

a. In paragraphs (a) and (b), revise “processors and re-refiners” to read “processing and re-refining” in both instances;

b. In paragraph (b)(1)(ii), revise “release or used oil” to read “release of used oil”;

c. In paragraph (b)(6)(ii), revise “a real extent” to read “areal extent”; revise “facility records of manifests” to read “facility records or manifests”; and revise “analysts” to read “analyses”;

d. In paragraph (b)(6)(iii), revise “from water of chemical” to read “from water or chemical”.

§ 279.55 [Amended]

223. Amend § 279.55 as follows:

a. In paragraph (a) introductory text, revise “At at minimum” to read “At a minimum”;

b. In paragraph (b)(2)(i)(B), revise the citation “§ 260.20 and 260.21” to read “§§ 260.20 and 260.21”.

§ 279.56 [Amended]

224. Amend § 279.56 in paragraph (a)(2), by revising “processor/re-refining” to read “processor/re-refiner”.

§ 279.57 [Amended]

225. In § 279.57, amend paragraph (a)(2)(ii) by revising “an specified” to read “as specified”.

§ 279.59 [Amended]

226. Amend § 279.59 by revising “or re-fining of” to read “or re-refining of”.

§ 279.63 [Amended]

227. In § 279.63, amend paragraph (b)(3) by revising “processor/refiner” to read “processor/re-refiner”.

§ 279.64 [Amended]

228. In § 279.64, amend paragraph (e) heading by revising the word “existing” to read “new”.

§ 279.70 [Amended]

229. In § 279.70, amend paragraph (b)(1) by revising the word “incidently” to read “incidentally”.

[FR Doc. 06-5601 Filed 7-13-06; 8:45 am]

BILLING CODE 6560-50-P